DEPARTMENT OF THE INTERIOR

Fish and Wildlife Service

50 CFR Parts 25 and 32

[Docket No. FWS-HQ-NWRS-2013-0074]; [FXRS12650900000-134-FF09R20000]

RIN 1018-AZ87

2013-2014 Refuge-Specific Hunting and Sport Fishing Regulations

AGENCY: Fish and Wildlife Service, Interior.

ACTION: Proposed rule.

SUMMARY: The U.S. Fish and Wildlife Service proposes to add 6 national wildlife refuges (NWRs) to the list of areas open for hunting and/or sport fishing, add new hunts at 6 refuges, increase the hunting activities available at 20 other refuges, and increase fishing opportunities at two refuges, along with pertinent refuge-specific regulations on other refuges that pertain to migratory game bird hunting, upland game hunting, big game hunting, and sport fishing for the 2013-2014 season.

DATES: We will accept comments received or postmarked on or before October 24, 2013.

ADDRESSES: You may submit comments by one of the following methods:

• Electronically: Go to the Federal eRulemaking Portal: http://www.regulations.gov. Search for Docket No. FWS-HQ-NWRS-2013-0074, which is the docket number for this rulemaking. On the resulting screen, find the correct document and submit a comment by clicking on “Comment Now!”

• By hard copy: Submit by U.S. mail or hand delivery: Public Comments Processing, Attn: FWS-HQ-NWRS-2013-0074; Division of Policy and Directives Management; U.S. Fish and Wildlife Service; 4401 N Fairfax Drive, MS 2042-PDM; Arlington, VA 22203.

We will not accept email or faxes. We will post all comments on http://www.regulations.gov. This generally means that we will post any personal information you provide us (see the Request for Comments section below for more information). For information on specific refuges' public use programs and the conditions that apply to them or for copies of compatibility determinations for any refuge(s), contact individual programs at the addresses/phone numbers given in “Available Information for Specific Refuges” under SUPPLEMENTARY INFORMATION.

FOR FURTHER INFORMATION CONTACT: Paul F. Steblein, (703) 358-2678.

SUPPLEMENTARY INFORMATION: The National Wildlife Refuge System Administration Act of 1966 closes national wildlife refuges in all States except Alaska to all uses until opened. The Secretary of the Interior (Secretary) may open refuge areas to any use, including hunting and/or sport fishing, upon a determination that such uses are compatible with the purposes of the refuge and National Wildlife Refuge System mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review refuge hunting and sport fishing programs to determine whether to include additional refuges or whether individual refuge regulations governing existing programs need modifications. Changing environmental conditions, State and Federal regulations, and other factors affecting fish and wildlife populations and habitat may warrant modifications to refuge-specific regulations to ensure the continued compatibility of hunting and sport fishing programs and to ensure that these programs will not materially interfere with or detract from the fulfillment of refuge purposes or the Refuge System's mission.

Provisions governing hunting and sport fishing on refuges are in title 50 of the Code of Federal Regulations in part 32 (50 CFR part 32). We regulate hunting and sport fishing on refuges to:

• Ensure compatibility with refuge purpose(s);

• Properly manage the fish and wildlife resource(s);

• Protect other refuge values;

• Ensure refuge visitor safety; and

• Provide opportunities for quality fish- and wildlife-dependent recreation.

On many refuges where we decide to allow hunting and sport fishing, our general policy of adopting regulations identical to State hunting and sport fishing regulations is adequate in meeting these objectives. On other refuges, we must supplement State regulations with more-restrictive Federal regulations to ensure that we meet our management responsibilities, as outlined in the “Statutory Authority” section. We issue refuge-specific hunting and sport fishing regulations when we open wildlife refuges to migratory game bird hunting, upland game hunting, big game hunting, or sport fishing. These regulations list the wildlife species that you may hunt or fish, seasons, bag or creel (container for carrying fish) limits, methods of hunting or sport fishing, descriptions of areas open to hunting or sport fishing, and other provisions as appropriate. You may find previously issued refuge-specific regulations for hunting and sport fishing in 50 CFR part 32. In this rulemaking, we are also proposing to standardize and clarify the language of existing regulations.

Statutory Authority

The National Wildlife Refuge System Administration Act of 1966 (16 U.S.C. 668dd-668ee, as amended by the National Wildlife Refuge System Improvement Act of 1997 [Improvement Act]) (Administration Act), and the Refuge Recreation Act of 1962 (16 U.S.C. 460k-460k-4) (Recreation Act) govern the administration and public use of refuges.

Amendments enacted by the Improvement Act, built upon the Administration Act in a manner that provides an “organic act” for the Refuge System, are similar to those that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are: Hunting, fishing, wildlife observation and photography, and environmental education and interpretation.

The Recreation Act authorizes the Secretary to administer areas within the Refuge System for public recreation as an appropriate incidental or secondary use only to the extent that doing so is practicable and not inconsistent with the primary purpose(s) for which Congress and the Service established the areas. The Recreation Act requires that any recreational use of refuge lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop refuge-specific regulations to ensure the compatibility of the programs with the purpose(s) for which we established the refuge and the Refuge System mission. We ensure initial compliance with the Administration Act and the Recreation Act for hunting and sport fishing on newly acquired refuges through an interim determination of compatibility made at or near the time of acquisition. These regulations ensure that we make the determinations required by these acts prior to adding refuges to the lists of areas open to hunting and sport fishing in 50 CFR part 32. We ensure continued compliance by the development of comprehensive conservation plans, specific plans, and by annual review of hunting and sport fishing programs and regulations.

Amendments to Existing Regulations

This document proposes to codify in the Code of Federal Regulations all of the Service's hunting and/or sport fishing regulations that are applicable at Refuge System units previously opened to hunting and/or sport fishing. We are doing this to better inform the general public of the regulations at each refuge, to increase understanding and compliance with these regulations, and to make enforcement of these regulations more efficient. In addition to now finding these regulations in 50 CFR part 32, visitors to our refuges will usually find them reiterated in literature distributed by each refuge or posted on signs.

We cross-reference a number of existing regulations in 50 CFR parts 26, 27, 28, and 32 to assist hunting and sport fishing visitors with understanding safety and other legal requirements on refuges. This redundancy is deliberate, with the intention of improving safety and compliance in our hunting and sport fishing programs.

Table 1—Changes for 2013-2014 Hunting/Fishing Season
Refuge/region (*) | State | Migratory bird hunting | Upland game hunting | Big game hunting | Sport fishing
Aransas NWR (2) | Texas | B | closed | Already open | Already open.
Arthur R. Marshall Loxahatchee NWR (4) | Florida | Already open | closed | B | Already open.
Balcones Canyonlands NWR (2) | Texas | C | C | C | closed.
Bandon Marsh NWR (1) | Oregon | C | closed | closed | Already open.
Baskett Slough NWR (1) | Oregon | A | closed | closed | closed.
Cherry Valley NWR (5) | Pennsylvania | A | A | A | closed.
Cokeville Meadows NWR (6) | Wyoming | A | A | A | closed.
Colusa NWR (8) | California | C | C | closed | closed.
Cypress Creek NWR (3) | Illinois | C | C | C | Already open.
Julia Butler Hansen Refuge For the Columbian White-Tailed Deer (1) | Oregon and Washington | C | closed | Already open | Already open.
Kootenai NWR (1) | Idaho | Already open | D | Already open | Already open.
Malheur NWR (1) | Oregon | C | Already open | Already open | C.
Middle Mississippi River NWR (3) | Illinois | C | C | C | Already open.
Mingo NWR (3) | Missouri | C | C/D | C | Already open.
Neal Smith NWR (3) | Iowa | C/D | C/D | C/D | closed.
Nestucca Bay NWR (1) | Oregon | A | closed | closed | closed.
Northern Tallgrass Prairie NWR (3) | Iowa | C/D | C/D | C/D | closed.
Patoka River NWR and Management Area (3) | Indiana | C | C | C | Already open.
Port Louisa NWR (3) | Iowa | C | C | C | C.
Rachel Carson NWR (5) | Maine | C | C/D | C/D | Already open.
St. Marks NWR (4) | Florida | C | C | C | Already open.
San Andres NWR (2) | New Mexico | closed | closed | D | closed.
Shawangunk Grasslands NWR (5) | New York | closed | closed | A | closed.
Siletz Bay NWR (1) | Oregon | A | closed | closed | closed.
Silvio O. Conte National Fish and Wildlife Refuge (5) | Vermont | C | C | C | closed.
Willapa NWR (1) | Washington | C | Already open | C | Already open.
Key:
* number in ( ) refers to the Region as explained in the preamble to this proposed rule for additional information regarding refuge specific regulations.
A = New Refuge opened.
B = New activity on a refuge previously open to other activities.
C = Refuge already open to activity, but added new lands/waters or modified areas open to hunting or fishing.
D = Refuge already open to activity but added new species to hunt.

The changes for the 2013-14 hunting/fishing season noted in the chart above are each based on a complete administrative record which, among other detailed documentation, also includes a hunt plan, a compatibility determination, and the appropriate National Environmental Policy Act (NEPA; 42 U.S.C. 4321 et seq.) analysis, all of which were the subject of a public review and comment process. These documents are available upon request.

Fish Advisory

For health reasons, anglers should review and follow State-issued consumption advisories before enjoying recreational sport fishing opportunities on Service-managed waters. You can find information about current fish consumption advisories on the Internet at: http://www.epa.gov/waterscience/fish/.

Plain Language Mandate

In this proposed rule, we propose some of the revisions to the individual refuge units to comply with a Presidential mandate to use plain language in regulations; as such, these particular revisions do not modify the substance of the previous regulations. These types of changes include using “you” to refer to the reader and “we” to refer to the Refuge System, using the word “allow” instead of “permit” when we do not require the use of a permit for an activity, and using active voice (i.e., “We restrict entry into the refuge” vs. “Entry into the refuge is restricted”).

Request for Comments

You may submit comment and materials on this proposed rule by any one of the methods listed in the ADDRESSES section. We will not accept comments sent by email or fax or to an address not listed in the ADDRESSES section. We will not consider hand-delivered comments that we do not receive, or mailed comments that are not postmarked, by the date specified in the DATES section.

We will post your entire comment on http://www.regulations.gov. Before including personal identifying information in your comment, you should be aware that we may make your entire comment—including your personal identifying information—publicly available at any time. While you can ask us in your comment to withhold your personal identifying information from public review, we cannot guarantee that we will be able to do so. We will post all hardcopy comments on http://www.regulations.gov.

Public Comment

Department of the Interior policy is, whenever practicable, to afford the public a meaningful opportunity to participate in the rulemaking process. The process of opening refuges is done in stages, with the fundamental work being performed on the ground at the refuge and in the community where the program is administered. In these stages, the public is given other opportunities to comment, for example, on the comprehensive conservation plans and the compatibility determinations. The second stage is this document, when we publish the proposed rule in the Federal Register for additional comment, commonly for a 30-day comment period.

There is nothing contained in this annual regulation outside the scope of the annual review process where we determine whether individual refuges need modifications, deletions, or additions made to them. We make every attempt to collect all of the proposals from the refuges nationwide and process them expeditiously to maximize the time available for public review. We believe that a 30-day comment period, through the broader publication following the earlier public involvement, gives the public sufficient time to comment and allows us to establish hunting and fishing programs in time for the upcoming seasons. Many of these rules also relieve restrictions and allow the public to participate in recreational activities on a number of refuges. In addition, in order to continue to provide for previously authorized hunting opportunities while at the same time providing for adequate resource protection, we must be timely in providing modifications to certain hunting programs on some refuges.

We considered providing a 60-day, rather than a 30-day, comment period. However, we determined that an additional 30-day delay in processing these refuge-specific hunting and sport fishing regulations would hinder the effective planning and administration of our hunting and sport fishing programs. Such a delay would jeopardize enacting amendments to hunting and sport fishing programs in time for implementation this year and/or early next year, or shorten the duration of these programs.

Even after issuance of a final rule, we accept comments, suggestions, and concerns for consideration for any appropriate subsequent rulemaking.

When finalized, we will incorporate these regulations into 50 CFR part 32. Part 32 contains general provisions and refuge-specific regulations for hunting and sport fishing on refuges.

Clarity of This Rule

We are required by Executive Orders 12866 and 12988 and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in the ADDRESSES section. To better help us revise the rule; your comments should be a specific as possible. For example, you should tell us the numbers of the sections or paragraphs that are unclearly written, which sections or sentences are too long, the sections where you feel lists or tables would be useful, etc.

Regulatory Planning and Review (Executive Orders 12866 and 13563)

Executive Order 12866 provides that the Office of Information and Regulatory Affairs (OIRA) will review all significant rules. OIRA has determined that this rule is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act

Under the Regulatory Flexibility Act (as amended by the Small Business Regulatory Enforcement Fairness Act [SBREFA] of 1996) (5 U.S.C. 601 et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule would not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule would not have a significant economic impact on a substantial number of small entities.

This proposed rule adds 6 national wildlife refuges to the list of refuges open to hunting, increases hunting activities on 20 additional national wildlife refuges, and increases fishing activities at 2 refuges. As a result, visitor use for wildlife-dependent recreation on these national wildlife refuges will change. If the refuges establishing new programs were a pure addition to the current supply of such activities, it would mean an estimated increase of 19,425 user days (one person per day participating in a recreational opportunity) (Table 2). Because the participation trend is flat in these activities since 1991, this increase in supply will most likely be offset by other sites losing participants. Therefore, this is likely to be a substitute site for the activity and not necessarily an increase in participation rates for the activity.

Table 2—Estimated Change in Recreation Opportunities in 2013/2014
[dollars in thousands]
Refuge | Additional days | Additional expenditures
Aransas NWR | 2,600 | 121.1
Arthur R. Marshall Loxahatchee NWR | 11 | 0.5
Balcones Canyonlands NWR | 93 | 4.3
Bandon Marsh NWR | 108 | 5.0
Baskett Slough NWR | 140 | 6.5
Cherry Valley NWR | 315 | 14.7
Cokeville Meadows NWR | 500 | 23.3
Colusa NWR | 165 | 7.7
Cypress Creek NWR | 0 |
Julia Butler Hansen Refuge For the Columbian White-Tailed Deer | 0 |
Kootenai NWR | 0 |
Malheur NWR | 95 | 4.4
Middle Mississippi River NWR | 11,835 | 551.2
Mingo NWR | 1,500 | 69.9
Neal Smith NWR | 25 | 1.2
Nestucca Bay NWR | 120 | 5.6
Northern Tallgrass Prairie NWR | 10 | 0.5
Patoka River NWR and Management Area | 26 | 1.2
Port Louisa NWR | 0 |
Rachel Carson NWR | 0 |
St. Marks NWR | 30 | 1.4
San Andres NWR | 4 | 0.2
Shawangunk Grasslands NWR | 43 | 2.0
Siletz Bay NWR | 100 | 4.66
Silvio O. Conte National Fish and Wildlife Refuge | 875 | 40.8
Willapa NWR | 830 | 38.7
TOTAL | 19,425 | 904.8

To the extent visitors spend time and money in the area of the refuge that they would not have spent there anyway, they contribute new income to the regional economy and benefit local businesses. Due to the unavailability of site-specific expenditure data, we use the national estimates from the 2011 National Survey of Fishing, Hunting, and Wildlife Associated Recreation to identify expenditures for food and lodging, transportation, and other incidental expenses. Using the average expenditures for these categories with the maximum expected additional participation of the Refuge System yields approximately $904,800 in recreation-related expenditures (Table 2). By having ripple effects throughout the economy, these direct expenditures are only part of the economic impact of these recreational activities. Using a national impact multiplier for hunting activities (2.27) derived from the report “Hunting in America: An Economic Force for Conservation” yields a total economic impact of approximately $2.1 million (2012 dollars) (Southwick Associates, Inc., 2012). Using a local impact multiplier would yield more accurate and smaller results. However, we employed the national impact multiplier due to the difficulty in developing local multipliers for each specific region.

Since we know that most of the fishing and hunting occurs within 100 miles of a participant's residence, then it is unlikely that most of this spending would be “new” money coming into a local economy; therefore, this spending would be offset with a decrease in some other sector of the local economy. The net gain to the local economies would be no more than $2.1 million, and most likely considerably less. Since 80 percent of the participants travel less than 100 miles to engage in hunting and fishing activities, their spending patterns would not add new money into the local economy and, therefore, the real impact would be on the order of about $411,000 annually.

Small businesses within the retail trade industry (such as hotels, gas stations, taxidermy shops, bait and tackle shops, and similar businesses) may be impacted from some increased or decreased refuge visitation. A large percentage of these retail trade establishments in the local communities around national wildlife refuges qualify as small businesses (Table 3). We expect that the incremental recreational changes will be scattered, and so we do not expect that the rule will have a significant economic effect on a substantial number of small entities in any region or nationally. As noted previously, we expect approximately $411,000 to be spent in total in the refuges' local economies. The maximum increase at most would be less than one-tenth of 1 percent for local retail trade spending (Table 3).

Table 3—Comparative Expenditures for Retail Trade Associated With Additional Refuge Visitation for 2013/2014
[thousands, 2012 dollars]
Refuge/county(ies) | Retail trade in 2007 | Estimated maximum addition from new activities | Addition as % of total | Establishments in 2011 | Establ. with <10 emp in 2011
Aransas NWR:
Calhoun, TX | $356,827 | $60.6 | 0.017 | 61 | 43
Aransas, TX | 267,465 | 60.6 | 0.023 | 70 | 53
Arthur R Marshall Loxahatchee NWR: Palm Beach, FL | 21,395,255 | 0.5 | <0.001 | 5,256 | 3,961
Balcones Canyonlands NWR:
Burnet, TX | 708,176 | 1.4 | <0.001 | 176 | 146
Travis, TX | 15,369,020 | 1.4 | <0.001 | 3,454 | 2,398
Williamson, TX | 10,982,412 | 1.4 | <0.001 | 1,237 | 812
Bandon Marsh NWR: Coos, OR | 792,881 | 5.0 | 0.001 | 268 | 191
Baskett Slough NWR: Polk, OR | 415,314 | 6.5 | 0.002 | 135 | 102
Cherry Valley NWR:
Monroe, PA | 2,231,111 | 7.3 | <0.001 | 631 | 422
Northampton, PA | 3,770,434 | 7.3 | <0.001 | 876 | 608
Cokeville Meadows NWR: Lincoln, WY | 245,506 | 23.3 | 0.009 | 79 | 62
Colusa NWR: Colusa, CA | 230,924 | 7.7 | 0.003 | 60 | 40
Malheur NWR: Harney, OR | 96,975 | 4.4 | 0.005 | 28 | 20
Middle Mississippi River NWR:
Randolph, IL | 367,968 | 137.8 | 0.037 | 105 | 68
Jackson, IL | 757,506 | 137.8 | 0.018 | 225 | 141
Jefferson, IN | 628,548 | 137.8 | 0.022 | 182 | 132
Monroe, IL | 449,266 | 137.8 | 0.031 | 95 | 65
Mingo NWR:
Stoddard, MO | 482,886 | 34.9 | 0.007 | 120 | 84
Wayne, MO | 72,844 | 34.9 | 0.048 | 37 | 29
Neal Smith NWR: Jasper, IA | 303,361 | 1 | <0.001 | 116 | 80
Nestucca Bay NWR: Tillamook, OR | 249,040 | 5.6 | 0.002 | 107 | 89
Northern Tallgrass Prairie NWR: Jasper, IA | 303,361 | 0.5 | <0.001 | 116 | 80
Patoka River NWR:
Gibson, IN | 490,105 | 1.2 | <0.001 | 122 | 84
Pike, IN | 61,937 | 1.2 | 0.002 | 31 | 22
St. Marks NWR:
Wakulla, FL | 185,694 | 0.5 | <0.001 | 59 | 46
Jefferson, FL | 98,234 | 0.5 | <0.001 | 47 | 35
Taylor, FL | 229,296 | 0.5 | <0.001 | 96 | 75
San Andres NWR: Dona Ana, NM | 2,132,201 | 0.2 | <0.001 | 510 | 341
Shawangunk Grasslands NWR: Ulster, NY | 2,481,614 | 2.0 | <0.001 | 733 | 548
Siletz Bay NWR: Lincoln, OR | 619,646 | 4.66 | 0.001 | 310 | 247
Silvio O. Conte National Fish and Wildlife Refuge:
Essex, VT | 16,644 | 20.4 | 0.122 | 20 | 16
Windham, VT | 731,645 | 20.4 | 0.003 | 289 | 217
Willapa NWR: Pacific, WA | 126,764 | 38.7 | 0.030 | 87 | 77

With the small change in overall spending anticipated from this proposed rule, it is unlikely that a substantial number of small entities will have more than a small impact from the spending change near the affected refuges. Therefore, we certify that this proposed rule will not have a significant economic effect on a substantial number of small entities as defined under the Regulatory Flexibility Act (5 U.S.C. 601 et seq.). An initial/final regulatory flexibility analysis is not required. Accordingly, a small entity compliance guide is not required.

Small Business Regulatory Enforcement Fairness Act

The proposed rule is not a major rule under 5 U.S.C. 804(2), the Small Business Regulatory Enforcement Fairness Act. We anticipate no significant employment or small business effects. This rule:

a. Would not have an annual effect on the economy of $100 million or more. The minimal impact would be scattered across the country and would most likely not be significant in any local area.

b. Would not cause a major increase in costs or prices for consumers; individual industries; Federal, State, or local government agencies; or geographic regions. This proposed rule would have only a slight effect on the costs of hunting opportunities for Americans. If the substitute sites are farther from the participants' residences, then an increase in travel costs would occur. The Service does not have information to quantify this change in travel cost but assumes that, since most people travel less than 100 miles to hunt, the increased travel cost would be small. We do not expect this proposed rule to affect the supply or demand for hunting opportunities in the United States and, therefore, it should not affect prices for hunting equipment and supplies, or the retailers that sell equipment.

c. Would not have significant adverse effects on competition, employment, investment, productivity, innovation, or the ability of U.S.-based enterprises to compete with foreign-based enterprises. This proposed rule represents only a small proportion of recreational spending at national wildlife refuges. Therefore, this rule would have no measurable economic effect on the wildlife-dependent industry, which has annual sales of equipment and travel expenditures of $72 billion nationwide.

Unfunded Mandates Reform Act

Since this proposed rule would apply to public use of federally owned and managed refuges, it would not impose an unfunded mandate on State, local, or Tribal governments or the private sector of more than $100 million per year. The rule would not have a significant or unique effect on State, local, or Tribal governments or the private sector. A statement containing the information required by the Unfunded Mandates Reform Act (2 U.S.C. 1531 et seq.) is not required.

Takings (E.O. 12630)

In accordance with E.O. 12630, this proposed rule would not have significant takings implications. This regulation would affect only visitors at national wildlife refuges and describe what they can do while they are on a refuge.

Federalism (E.O. 13132)

As discussed in the Regulatory Planning and Review and Unfunded Mandates Reform Act sections above, this proposed rule would not have sufficient federalism summary impact statement implications to warrant the preparation of a Federalism Assessment under E.O. 13132. In preparing this proposed rule, we worked with State governments.

Civil Justice Reform (E.O. 12988)

In accordance with E.O. 12988, the Office of the Solicitor has determined that the proposed rule would not unduly burden the judicial system and that it meets the requirements of sections 3(a) and 3(b)(2) of the Order. The regulation would clarify established regulations and result in better understanding of the regulations by refuge visitors.

Energy Supply, Distribution or Use (E.O. 13211)

On May 18, 2001, the President issued E.O. 13211 on regulations that significantly affect energy supply, distribution, and use. E.O. 13211 requires agencies to prepare Statements of Energy Effects when undertaking certain actions. Because this proposed rule would increase activities at 21 other refuges, at add new hunts at five refuges and increase fishing opportunities at two refuges, it is not a significant regulatory action under E.O. 12866, and we do not expect it to significantly affect energy supplies, distribution, and use. Therefore, this action is a not a significant energy action and no Statement of Energy Effects is required.

Consultation and Coordination With Indian Tribal Governments (E.O. 13175)

In accordance with E.O. 13175, we have evaluated possible effects on federally recognized Indian tribes and have determined that there are no effects. We coordinate recreational use on national wildlife refuges with Tribal governments having adjoining or overlapping jurisdiction before we propose the regulations.

Paperwork Reduction Act

This regulation does not contain any information collection requirements other than those already approved by the Office of Management and Budget (OMB) under the Paperwork Reduction Act (44 U.S.C. 3501 et seq.) (OMB Control Numbers are 1018-0102 and 1018-0140). In this proposed rule, we propose to revise 50 CFR 25.23 to provide correct information concerning OMB approval for the collections of information contained in subchapter C of title 50 of the Code of Federal Regulations. An agency may not conduct or sponsor and a person is not required to respond to a collection of information unless it displays a currently valid OMB control number.

Endangered Species Act Section 7 Consultation

We comply with section 7 of the Endangered Species Act of 1973, as amended (16 U.S.C. 1531 et seq.), when developing comprehensive conservation plans (CCPs) and step-down management plans (which would include hunting and/or fishing plans) for public use of refuges, and prior to implementing any new or revised public recreation program on a refuge as identified in 50 CFR 26.32. We have completed section 7 consultation on each of the affected refuges.

National Environmental Policy Act

We analyzed this proposed rule in accordance with the criteria of the National Environmental Policy Act of 1969 (NEPA) (42 U.S.C. 4332(C)), 43 CFR part 46, and 516 Departmental Manual (DM) 8.

A categorical exclusion from NEPA documentation applies to publication of proposed amendments to refuge-specific hunting and fishing regulations since they are technical and procedural in nature, and the environmental effects are too broad, speculative, or conjectural to lend themselves to meaningful analysis (43 CFR 46.210 and 516 DM 8). Concerning the actions that are the subject of this proposed rulemaking, we have complied with NEPA at the project level when developing each proposal. This is consistent with the Department of the Interior instructions for compliance with NEPA where actions are covered sufficiently by an earlier environmental document (43 CFR 46.120).

Prior to the addition of a refuge to the list of areas open to hunting and fishing in 50 CFR part 32, we develop hunting and fishing plans for the affected refuges. We incorporate these proposed refuge hunting and fishing activities in the refuge CCPs and/or other step-down management plans, pursuant to our refuge planning guidance in 602 Fish and Wildlife Service Manual (FW) 1, 3, and 4. We prepare these CCPs and step-down plans in compliance with section 102(2)(C) of NEPA, and the Council on Environmental Quality's regulations for implementing NEPA in 40 CFR parts 1500-1508. We invite the affected public to participate in the review, development, and implementation of these plans. Copies of all plans and NEPA compliance are available from the refuges at the addresses provided below.

Available Information for Specific Refuges

Individual refuge headquarters have information about public use programs and conditions that apply to their specific programs and maps of their respective areas. To find out how to contact a specific refuge, contact the appropriate Regional office listed below:

Region 1—Hawaii, Idaho, Oregon, and Washington. Regional Chief, National Wildlife Refuge System, U.S. Fish and Wildlife Service, Eastside Federal Complex, Suite 1692, 911 NE. 11th Avenue, Portland, OR 97232-4181; Telephone (503) 231-6214.

Region 2—Arizona, New Mexico, Oklahoma, and Texas. Regional Chief, National Wildlife Refuge System, U.S. Fish and Wildlife Service, Box 1306, 500 Gold Avenue, Albuquerque, NM 87103; Telephone (505) 248-7419.

Region 3—Illinois, Indiana, Iowa, Michigan, Minnesota, Missouri, Ohio, and Wisconsin. Regional Chief, National Wildlife Refuge System, U.S. Fish and Wildlife Service, 1 Federal Drive, Federal Building, Fort Snelling, Twin Cities, MN 55111; Telephone (612) 713-5401.

Detroit River International Wildlife Refuge, 9311 Groh Road, Large Lakes Research Station, Grosse Ile, MI 43138; Telephone (734) 692-7608.

Region 4—Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7166.

Region 5—Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8306.

Region 6—Colorado, Kansas, Montana, Nebraska, North Dakota, South Dakota, Utah, and Wyoming. Regional Chief, National Wildlife Refuge System, U.S. Fish and Wildlife Service, 134 Union Blvd., Lakewood, CO 80228; Telephone (303) 236-8145.

Region 7—Alaska. Regional Chief, National Wildlife Refuge System, U.S. Fish and Wildlife Service, 1011 E. Tudor Rd., Anchorage, AK 99503; Telephone (907) 786-3545.

Region 8—California and Nevada. Regional Chief, National Wildlife Refuge System, U.S. Fish and Wildlife Service, 2800 Cottage Way, Room W-2606, Sacramento, CA 95825; Telephone (916) 414-6464.

Primary Author

Paul Steblein, Division of Conservation Planning and Policy, National Wildlife Refuge System is the primary author of this rulemaking document.

List of Subjects

50 CFR Part 25

Administrative practice and procedure, Concessions, Reporting and recordkeeping requirements, Safety, Wildlife refuges.

50 CFR Part 32

Fishing, Hunting, Reporting, and recordkeeping requirements, Wildlife, Wildlife refuges.

Proposed Regulation Promulgation

For the reasons set forth in the preamble, we propose to amend title 50, chapter I, subchapter C of the Code of Federal Regulations as follows:

PART 25—[AMENDED]

1. The authority citation for part 25 continues to read as follows:

Authority: 5 U.S.C. 301; 16 U.S.C. 460k, 664, 668dd, and 715i, 3901 et seq.; and Pub. L. 102-402, 106 Stat. 1961.

2. Revise § 25.23 to read as follows:

§ 25.23 What are the general regulations and information collection requirements?

The Office of Management and Budget has approved the information collection requirements contained in subchapter C, parts 25, 26, 27, 29, 30, 31, 32, and 36 under 44 U.S.C. 3501 et seq. and assigned the following control numbers: 1018-0102 for National Wildlife Refuge Special Use Permit Applications and Reports; 1018-0140 for Hunting and Fishing Application Forms and Activity Reports for National Wildlife Refuges; and 1018-0153 for National Wildlife Refuge Visitor Check-In Permit and Use Report. We collect information to assist us in administering our programs in accordance with statutory authorities that require that recreational or other uses be compatible with the primary purposes for which the areas were established. Send comments on any aspect of these forms or the information collection requirements to the Information Collection Clearance Officer, U.S. Fish and Wildlife Service, MS 2042-PDM, Washington, DC 20240.

PART 32—[AMENDED]

3. The authority citation for part 32 continues to read as follows:

Authority: 5 U.S.C. 301; 16 U.S.C. 460k, 664, 668dd-668ee, and 715i.

4. Amend § 32.7 “What refuge units are open to hunting and/or sport fishing?” by:

a. Adding an entry for “Silvio O. Conte National Fish and Wildlife Refuge” and placing it in alphabetical order in the State of Connecticut;

b. Adding an entry for “Silvio O. Conte National Fish and Wildlife Refuge” and placing it in alphabetical order in the State of Massachusetts;

c. Adding an entry for “Shawangunk Grasslands National Wildlife Refuge” and placing it in alphabetical order in the State of New York;

d. Adding an entry for “Baskett Slough National Wildlife Refuge” and placing it in alphabetical order in the State of Oregon;

e. Adding an entry for “Nestucca Bay National Wildlife Refuge” and placing it in alphabetical order in the State of Oregon;

f. Adding an entry for “Siletz Bay National Wildlife Refuge” and placing it in alphabetical order in the State of Oregon;

g. Adding an entry for “Cherry Valley National Wildlife Refuge” and placing it in alphabetical order in the State of Pennsylvania;

h. Adding an entry for “Silvio O. Conte National Fish and Wildlife Refuge” and placing it in alphabetical order in the State of Vermont; and

i. Adding an entry for “Cokeville Meadows National Wildlife Refuge” and placing it in alphabetical order in the State of Wyoming.

5. Amend § 32.20 Alabama by:

a. Revising paragraphs B.1, B.2, B.3, B.4, B.5, B.6, B.7, C.1, C.3, C.4, C.5, and D.1; adding paragraphs B.8 and B.9; and removing paragraphs C.6, C.7, C.8, and D.2 under Cahaba River National Wildlife Refuge.

b. Revising paragraphs B.5, B.6, B.8, B.9, B.10, C.1, C.2, C.3, C.4, D.1, D.2, and D.8 and adding paragraph C.6 under Choctaw National Wildlife Refuge.

c. Revising paragraphs B.1, B.4, and C.1 under Eufaula National Wildlife Refuge.

d. Revising paragraphs A.1, A.4, A.5, and B.1 and adding paragraphs A.6, A.7, and B.3 under Key Cave National Wildlife Refuge.

e. Revising paragraphs A.1, A.2, A.3, A.4, B.1, B.2, B.3, C.1, and C.4 and adding paragraphs A.5, A.6, A.7, B.4, and B.5 under Mountain Longleaf National Wildlife Refuge.

f. Revising paragraph B under Sauta Cave National Wildlife Refuge.

g. . Revising paragraphs B.1, B.2, B.4, B.7, B.10, C.1, C.2, C.3, C.4, C.5, and C.7; removing paragraphs C.8 and C.9; and adding paragraphs B.11, B.12, and B.13 under Wheeler National Wildlife Refuge.

These revisions and additions read as follows:

§ 32.20 Alabama.

* * * * *

Cahaba River National Wildlife Refuge

* * * * *

B. Upland Game Hunting. * * *

1. We require hunters to hunt in accordance with Alabama Department of Conservation and Natural Resources' William R. Ireland, Sr.—Cahaba River Wildlife Management Area hunting permit conditions.

2. We require hunters to possess and carry a current and signed Alabama Department of Conservation and Natural Resources' William R. Ireland, Sr.—Cahaba River Wildlife Management Area hunting permit when hunting on the refuge.

3. All youth hunters under age 16 must be supervised by a licensed and permitted adult 21 years of age or older, and must remain with the adult while hunting. One adult may supervise no more than two youth hunters.

4. We prohibit the use of horses, mules, and all-terrain vehicles (ATVs) on the refuge.

5. Hunters may hunt with shotguns using only nontoxic #4 shot or smaller (see § 32.2(k)), rifles and handguns using rim-fire ammunition only, or archery equipment that complies with State and Federal regulations.

6. We prohibit hunting or discharging firearms (including muzzle loaders) from within 50 yards (45 meters) of River Trace Road.

7. Hunting dogs may be used to hunt upland game and must be controlled by the owner/handler at all times (see § 26.21(b) of this chapter).

8. Hunters may only hunt designated game species during specified days, which are published within the Cahaba River National Wildlife Refuge Hunting dates portion of the permit.

9. Hunters must remove tree stands, blinds, or other personal property from the refuge each day (see § 27.93 of this chapter).

C. Big Game Hunting. * * *

1. Conditions B1, B2, B4, B6, and B8 through B10 apply.

* * * * *

3. We allow hunters to hunt from tree stands in accordance with 50 CFR 32.2(i). Hunters must use a body safety harness at all times while hunting from a tree.

4. All youth hunters under age 16 must be supervised by a properly licensed and permitted adult 21 years of age or older, and must remain with the adult while hunting. One adult may supervise no more than one youth hunter.

5. Hunters may not hunt by aid of or participate in drives to take deer or feral hogs.

D. Sport Fishing. * * *

1. Condition B4 applies.

Choctaw National Wildlife Refuge

* * * * *

B. Upland Game Hunting. * * *

* * * * *

5. All persons 15 years of age or younger, while hunting on the refuge, must be in the presence and under direct supervision of a licensed or exempt hunter at least 21 years of age. A licensed hunter supervising a youth as provided in this section must hold a valid State license for the species being hunted. One adult may supervise no more than one youth hunter.

6. The refuge is open every day from 1 hour before sunrise to 1 hour after sunset, except authorized uses. Personal property must be removed from the refuge daily (see § 27.93 of this chapter).

* * * * *

8. Persons possessing, transporting, or carrying firearms on the refuge must comply with all provisions of State and local law. Persons may only use (discharge) firearms in accordance with refuge regulations (see § 27.42 of this chapter and specific refuge regulations in part 32). Persons may only use approved nontoxic shot in shotgun shells (see § 32.2(k)), .22 caliber rimfire or smaller rifles, or legal archery equipment according to State regulations. We prohibit magnum ammunition.

9. We prohibit equestrian use and all forms of motorized off-road vehicles.

10. We allow hunting of designated species with dogs during designated hunts.

C. Big Game Hunting. * * *

1. Conditions B1 through B9 and B11 apply.

2. We allow hunters to hunt from tree stands in accordance with 50 CFR 32.2(i). While climbing a tree, installing a tree stand that uses climbing aids, or while hunting from a tree stand on the refuge, hunters must use a fall-arrest system (full body harness) that is manufactured to Treestand Manufactures Associations standards.

3. We prohibit damaging trees or hunting from a tree that contains an inserted metal object (see § 32.2(i)). Personal property must be removed from the refuge each day except for one portable stand (including tripods and ground blinds) (see § 27.93 of this chapter). The stand is required to be tagged with the hunter's name, address, and phone number permanently and legibly written on or attached to the stand. Stands left on the area do not reserve hunting locations. Portable stands may not be installed on the area prior to 7 days before deer season opens, nor left longer than 7 days after deer season closes. Stands not in compliance with these regulations may be confiscated and disposed of by the U.S. Fish and Wildlife Service.

4. Hunters may not hunt by aid of or harassment of game for purposes of take of deer or feral hogs.

* * * * *

6. Hunter orange is required according to State regulations during gun deer season in Choctaw County, AL. We recommend all user groups wear hunter orange during hunting seasons.

D. Sport Fishing. * * *

1. We allow fishing year-round, except in the waterfowl sanctuary, which is closed from November 15 through March 1.

2. Conditions B2 and B6 apply.

* * * * *

8. We prohibit fishing tournaments on all refuge waters.

Eufaula National Wildlife Refuge

* * * * *

B. Upland Game Hunting. * * *

1. Conditions A1, A2, A3, and A7 through A15 apply.

* * * * *

4. We only allow shotguns as the means of take for upland game hunting.

* * * * *

C. Big Game Hunting. * * *

1. Conditions A1, A7 through A15, and B5 apply.

* * * * *

Key Cave National Wildlife Refuge

A. Migratory Game Bird Hunting. * * *

1. We require hunters to possess and carry a current and signed Key Cave National Wildlife Refuge permit, which is included with the Alabama Department of Conservation and Natural Resources' Seven Mile Island Wildlife Management Area hunting permit when hunting on the refuge.

* * * * *

4. All youth hunters under age 16 must be supervised by a licensed and permitted adult 21 years of age or older, and must remain with the adult while hunting. One adult may supervise no more than two youth hunters.

5. We allow hunters to use hunting dogs to hunt migratory game birds and upland game. The dogs must be controlled by the owner/handler at all times (see § 26.21(b) of this chapter).

6. Hunters may only hunt designated game species during specified days, which are published within the Key Cave National Wildlife Refuge Hunting Dates portion of the permit.

7. We prohibit the use of horses, mules or all-terrain vehicles (ATVs) on all refuge hunts.

B. Upland Game Hunting. * * *

1. Conditions A1 and A3 through A7 apply.

* * * * *

3. Hunters may hunt with shotguns using only nontoxic #4 shot or smaller (see § 32.2(k)), rifles and handguns using rim-fire ammunition only, or archery equipment that complies with State regulations. Possession of lead shot shells for hunting is prohibited.

* * * * *

Mountain Longleaf National Wildlife Refuge

A. Migratory Game Bird Hunting. * * *

1. We require hunters to hunt in accordance with Alabama Department of Conservation and Natural Resources' Choccolocco Wildlife Management Area hunting permit conditions.

2. We require hunters to possess and carry a current and signed Alabama Department of Conservation and Natural Resources' Choccolocco Wildlife Management Area hunting permit when hunting on the refuge.

3. All youth hunters under age 16 must be supervised by a properly licensed and permitted adult 21 years of age or older, and must remain with the adult while hunting. One adult may supervise no more than two youth hunters.

4. We prohibit the use of horses, mules and all-terrain vehicles (ATVs) on the refuge.

5. Hunters may only hunt designated game species during specified days, which are published within the Mountain Longleaf National Wildlife Refuge Hunting Dates portion of the permit.

6. Hunters must remove tree stands, blinds, or other personal property from the refuge each day (see § 27.93 of this chapter).

7. Hunters may hunt with shotguns using only nontoxic #4 shot or smaller (see § 32.2(k)). Possession of lead shot shells for hunting is prohibited.

B. Upland Game Hunting. * * *

1. Conditions A1 through A7 apply.

2. Hunters may hunt during daylight hours only.

3. We allow hunters to hunt from tree stands in accordance with 50 CFR 32.2(i). Hunters must use a body safety harness at all times while hunting from a tree.

4. Hunting dogs may be used to hunt quail, squirrel, and rabbit and must be controlled by the owner/handler at all times (see § 26.21(b) of this chapter).

5. Possession of lead shot shells for hunting is prohibited.

C. Big Game Hunting. * * *

1. Conditions A1, A2, and A4 through A7 apply.

* * * * *

4. All youth hunters under age 16 must be supervised by a licensed and permitted adult 21 years of age or older, and must remain with the adult while hunting. One adult may supervise no more than one youth hunter.

* * * * *

Sauta Cave National Wildlife Refuge

* * * * *

B. Upland Game Hunting. We allow hunting of quail, squirrel, rabbit, raccoon, and opossum on designated area of the refuge in accordance with Federal and State regulations subject to the following conditions:

1. We require hunters to hunt in accordance with Alabama Department of Conservation and Natural Resources' North Sauta refuge hunting permit.

2. We require hunters to possess and carry a current and signed Sauta Cave National Wildlife Refuge permit, which is found on the Alabama Department of Conservation and Natural Resources' Jackson County Waterfowl, Management Areas, refuges and Coon Gulf Tract hunting permit, when hunting.

3. Hunters may only hunt designated game species during specified days, which are published within the Sauta Cave National Wildlife Refuge Hunting Dates portion of the permit.

4. Hunters may hunt with shotguns using only nontoxic #4 shot or smaller (see § 32.2(k)), rifles and handguns using rim-fire ammunition only, or archery equipment that complies with State regulations. Possession of lead shot shells for hunting is prohibited.

5. All youth hunters under age 16 must be supervised by a licensed and permitted adult 21 years of age or older, and must remain with the adult while hunting. One adult may supervise no more than two youth hunters.

6. We allow hunters to use hunting dogs to hunt upland game. The dogs must be controlled by the owner/handler at all times (see § 26.21(b) of this chapter).

* * * * *

Wheeler National Wildlife Refuge

* * * * *

B. Upland Game Hunting. * * *

1. We require hunters to possess and carry a current and signed hunting permit, found on the Wheeler National Wildlife Refuge Hunting Brochure, when hunting on the refuge. These brochures are available at the refuge visitor center, refuge headquarters, and on the refuge's Web site.

2. Hunters may hunt with shotguns using only nontoxic #4 shot or smaller (see § 32.2(k)), rifles and handguns using rim-fire ammunition only, or archery equipment that complies with State regulations.

* * * * *

4. We prohibit hunting or discharging firearms (including Flintlocks) in the Triana recreation area or from any road or road shoulder or from within 50 yards (45 meters) of any designated walking trail or boardwalk.

* * * * *

7. All youth hunters under age 16 must be supervised by a licensed and permitted adult 21 years of age or older, and must remain with the adult while hunting. One adult may supervise no more than two youth hunters.

* * * * *

10. Hunting dogs may be used to hunt upland game and must be controlled by the owner/handler at all times (see § 26.21(b) of this chapter).

11. We allow hunters to hunt from tree stands in accordance with 50 CFR 32.2(i). Hunters must use a body safety harness at all times while hunting from a tree.

12. Hunters must remove tree stands, blinds, or other personal property from the refuge each day (see § 27.93 of this chapter).

13. Hunters may only hunt designated game species during specified days, which are published within the Wheeler National Wildlife Refuge Hunting Brochure.

C. Big Game Hunting. * * *

1. Conditions B1, B3 through B6, B8, B9, and B11 through B13 apply.

2. Hunters may not hunt by aid of or harassment of game for purposes of take for deer or feral hogs.

3. Hunters may only hunt with archery equipment that complies with State regulations and flintlocks .40 caliber or larger.

4. All youth hunters under age 16 must be supervised by a licensed and permitted adult 21 years of age or older, and must remain with the adult while hunting. One adult may supervise no more than one youth hunter.

5. Hunters must report the sex, approximate size, and hunt area for any deer or hogs they harvested from the refuge within 72 hours. Reports must be given by phone or in person to the refuge Visitor Center (256/350-6639) or refuge headquarters (256/353-7243).

* * * * *

7. You may only hunt feral hog during the refuge archery and flintlock deer season.

* * * * *

6. Amend § 32.24 California by:

a. Revising paragraphs A.3, A.4, A.5, A.6, A.7, A.8, and B.1; adding paragraphs A.9; and removing paragraph B.2 under Colusa National Wildlife Refuge.

b. Revising paragraphs A. 4, A.10, A.11, and B.2; and removing paragraphs B.3, B.4, B.5, B.6, B.7, and B.8 under Delevan National Wildlife Refuge.

c. Revising paragraphs A.6, A.10, A.11, and B.2; and removing paragraphs B.3, B.4, B.5, B.6, B.7, and B.8 under Sacramento National Wildlife Refuge.

d. Revising paragraphs A.3, A.4, A.5, A.6, A.7, A.8, and B.1; adding paragraphs A.9; and removing paragraphs B.2, B.3, B.4, B.5, B.6, and B.7 under Sutter National Wildlife Refuge.

These revisions and additions read as follows:

§ 32.24 California.

* * * * *

Colusa National Wildlife Refuge

A. Migratory Game Bird Hunting. * * *

* * * * *

3. Access to the hunt area is by foot traffic only. Bicycles and other conveyances are not allowed. Mobility-impaired hunters must consult the refuge manager for allowed conveyances.

4. We allow boats with electric motors to be used by hunters with disabilities only in designated areas.

5. No person may build or maintain fires. Portable gas stoves are permissible.

6. You may enter or exit only at designated locations.

7. Vehicles may stop only at designated parking areas. We prohibit the dropping of passengers or equipment or stopping between designated parking areas.

8. Overnight stays, using passenger vehicles, motor homes, and trailers, are allowed only at the check station parking areas. Tents are prohibited.

9. We require dogs be kept on a leash, except for hunting dogs engaged in authorized hunting activities and under the immediate control of a licensed hunter.

B. Upland Game Hunting. * * *

1. Conditions A.1 through A.9 apply.

* * * * *

Delevan National Wildlife Refuge

A. Migratory Game Bird Hunting. * * *

* * * * *

4. Access to the hunt area is by foot traffic only. Bicycles and other conveyances are not allowed. Mobility-impaired hunters should consult the refuge manager for allowed conveyances.

* * * * *

10. Overnight stays, using passenger vehicles, motor homes, and trailers, are allowed only at the check station parking areas. Tents are prohibited.

11. We require dogs be kept on a leash, except for hunting dogs engaged in authorized hunting activities and under the immediate control of a licensed hunter.

B. Upland Game Hunting. * * *

* * * * *

2. Conditions A.4 through A.11 apply.

* * * * *

Sacramento National Wildlife Refuge

A. Migratory Game Bird Hunting. * * *

* * * * *

6. Access to the hunt area is by foot traffic only. Bicycles and other conveyances are not allowed. Mobility-impaired hunters must consult the refuge manager for allowed conveyances.

* * * * *

10. Overnight stays, using passenger vehicles, motor homes, and trailers, are allowed only at the check station parking areas. Tents are prohibited.

11. We require dogs be kept on a leash, except for hunting dogs engaged in authorized hunting activities and under the immediate control of a licensed hunter.

B. Upland Game Hunting. * * *

* * * * *

2. Conditions A.4 through A.11 apply.

* * * * *

Sutter National Wildlife Refuge

A. Migratory Game Bird Hunting. * * *

* * * * *

3. Access to the hunt area is by foot traffic only. Bicycles and other conveyances are not allowed. Mobility-impaired hunters should consult the refuge manager for allowed conveyances.

4. Boats with electric motors allowed only by hunters with disabilities in designated areas.

5. No person may build or maintain fires. Portable gas stoves are permissible.

6. You may enter or exit only at designated locations.

7. Vehicles may only stop at designated parking areas. We prohibit the dropping of passengers or equipment or stopping between designated parking areas.

8. Overnight stays, using passenger vehicles, motor homes, and trailers, are allowed only at the check station parking areas. Tents are prohibited.

9. Dogs must be kept on a leash, except for hunting dogs engaged in authorized hunting activities and under the immediate control of a licensed hunter.

B. Upland Game Hunting. * * *

1. Conditions A.1 through A.9 apply.

* * * * *

7. Amend § 32.25 Colorado by revising the introductory text in paragraphs A and B and by adding paragraphs A.6, B.4, D.4, and D.5 under Arapaho National Wildlife Refuge to read as follows:

§ 32.25 Colorado.

* * * * *

Arapaho National Wildlife Refuge

A. Migratory Game Bird Hunting. We allow hunting of duck, coot, merganser, Canada goose, snipe, Virginia and Sora rail, and mourning dove on designated areas of the refuge in accordance with State and Federal regulations, subject to the following conditions:

* * * * *

6. Legal method of take for migratory game birds is by shotgun only.

B. Upland Game Hunting. We allow hunting of jackrabbit, cottontail rabbit, and sage grouse on designated areas of the refuge in accordance with State regulations, subject to the following conditions:

* * * * *

4. Legal method of take for upland game is by shotgun only.

* * * * *

D. Sport Fishing. * * *

* * * * *

4. Fishing is closed in Unit C when the refuge is open to big game rifle hunting.

5. Lead sinkers and live bait are not allowed for fishing.

* * * * *

8. Amend § 32.26 Connecticut by adding, in alphabetical order, an entry for Silvio O. Conte National Fish and Wildlife Refuge to read as follows:

§ 32.26 Connecticut.

* * * * *

Silvio O. Conte National Fish and Wildlife Refuge

A. Migratory Game Bird Hunting. [RESERVED]

B. Upland Game Hunting. [RESERVED]

C. Big Game Hunting. [RESERVED]

D. Sport Fishing. [RESERVED]

* * * * *

9. Amend § 32.28 Florida by:

a. Revising the introductory text in paragraphs A and D; revising paragraph A.2; removing paragraph A.4; redesignating A.5, A.6, A.7, A.8, A.9, A.10, A.11, A.12, A.13, A.14, A.15, A.16, A.17 and A.18 as paragraphs A.4, A.5, A.6, A.7, A.8, A.9, A.10, A.11, A.12, A.13, A.14, A.15, A.16 and A.17 revising newly designated paragraph A.12; and adding a new paragraph C under Arthur R. Marshall Loxahatchee National Wildlife Refuge.

b. Revising paragraphs D.4, D.5, and D.7; redesignating paragraphs D.8, D.9, D.10, D.11, D.12, D.13, D.14, D.15, D.16, D.17, D.18, D.19, and D.20 as paragraphs D.9, D.10, D.11, D.12, D.13, D.14, D.15, D.16, D.17, D.18, D.19, D.20, and D.21, respectively; revising newly designated paragraphs D.13 and D.21; and adding paragraph D.8 under J.N. “Ding” Darling National Wildlife Refuge.

c. Revising paragraphs A.3, B.1, C.4, C.8, and C.9 and adding paragraphs B.12 and C.12 under St. Marks National Wildlife Refuge.

These additions and revisions read as follows:

§ 32.28 Florida.

* * * * *

Arthur R. Marshall Loxahatchee National Wildlife Refuge

A. Migratory Game Bird Hunting. We allow hunting of duck and coot on designated areas of the refuge in accordance with State and Federal regulations subject to the following conditions:

* * * * *

2. We allow hunting in the interior of the refuge south of latitude line 26.27.130 and north of mile markers 12 and 14 (SEE PERMIT MAP). We prohibit hunting from canals or levees and those areas posted as closed.

* * * * *

12. All youth hunters under age 16 must be supervised by a licensed and permitted adult 21 years of age or older, and must remain with the adult while hunting. Youth hunters must have completed a hunter education course.

* * * * *

C. Big Game Hunting. We allow hunting of alligators on designated areas of the refuge in accordance with Federal and State regulations and subject to the following conditions:

1. You must possess and carry a signed refuge alligator hunt permit (signed brochure) while hunting. These brochures are available at the refuge visitor center and on the refuge's Web site (http://www.fws.gov/loxahatchee/).

2. We allow hunting in the interior of the refuge south of latitude line 26.27.130 and north of mile markers 12 and 14, including the canals south of that line (SEE PERMIT MAP). We prohibit hunting from levees and those areas posted as closed.

3. Consult the refuge manager for current alligator hunt season dates and times.

4. We allow hunting on the refuge 1 hour before sunset on Friday night through 1 hour after sunrise Saturday morning, and 1 hour before sunset on Saturday night through 1 hour after sunrise Sunday morning. Alligator hunting will be permitted the first two weekends during Harvest Period 1 (August) and the first two weekends during Harvest Period 2 (September). Following the close of Harvest Period 2, the remaining weekends in October will be open for alligator harvest permittees who possess unused CITES tags. Specific dates for the alligator hunt will be provided on the harvest permit.

5. Hunters 18 years and older must be in possession of all necessary State and Federal licenses, permits, and CITES tags, as well as a refuge hunt permit (signed hunt brochure) while hunting on the refuge. They must possess an Alligator Trapping License with CITES tags or an Alligator Trapping Agent License, if applicable.

6. Hunters under the age of 18 may not hunt, but may only accompany an adult of at least 21 years of age who possesses an Alligator Trapping Agent License.

7. Hunters may only enter and leave the refuge at the Hillsboro Area (Loxahatchee Road, Boca Raton).

8. Alligators may be taken using hand-held snares, harpoons, gigs, snatch hooks, artificial lures, manually operated spears, spear guns, and crossbows. Alligators may not be taken using baited hooks, baited wooden pegs, or firearms. Bang sticks (a hand held pole with a pistol or shotgun cartridge on the end in a very short barrel) with non-toxic ammunition are only permitted for taking alligators attached to a restraining line. Once an alligator is captured, it must be killed immediately. Once the alligator is taken or harvested, a CITES tag must be locked through the skin of the carcass within 6 inches of the tip of the tail. The tag must remain attached to the alligator at all times.

9. Hunters must complete a Big Game Harvest Report (FWS Form 3-2359) and place it in an entrance fee canister each day prior to exiting the refuge. A State Alligator Report form required by the State along with the hunt permit (signed refuge brochure) must be submitted to the refuge within 24 hours of taking each alligator.

10. Persons possessing, transporting, or carrying firearms on national wildlife refuges must comply with all provisions of Federal, State, and local law. Persons may only use (discharge) firearms in accordance with refuge regulations (see § 27.42 of this chapter and specific refuge regulations in this part 32).

11. Hunters must remove all personal property (see § 27.93 of this chapter) from the hunting area each day.

12. Conditions A13 through A17 apply.

D. Sport Fishing. We allow fishing on designated areas of the refuge in accordance with Federal and State regulations and subject to the following conditions:

* * * * *

J.N. “Ding” Darling National Wildlife Refuge

* * * * *

D. Sport Fishing. * * *

* * * * *

4. We allow the take of blue crabs with the use of dip nets only.

5. The daily limit of blue crabs is 20 per person (including no more than 10 non-eggbearing females).

* * * * *

7. We allow vessels propelled only by polling, paddling, or floating in the posted “no-motor zone” of the J.N. “Ding” Darling Wilderness Area. All motors, including electric motors, must be in a nonuse position (out of the water) when in the “no-motor zone.”

8. We allow vessels propelled only by polling, paddling, floating, or electric motors in the posted “pole/troll zone” of the Wulfert Flats Management Area. All non-electric motors must be in a non-use position (out of the water) when in the “pole/troll zone.”

* * * * *

13. We prohibit all public entry into the impoundments on the left side of Wildlife Drive.

* * * * *

21. We close to public entry all refuge islands (including rookery islands) except for designated trails.

* * * * *

St. Marks National Wildlife Refuge

A. Migratory Game Bird Hunting. * * *

* * * * *

3. We prohibit migratory game bird hunting in the Executive Closure Areas on the refuge.

* * * * *

B. Upland Game Hunting. * * *

1. We require refuge permits (signed brochure) for hunting upland game. Permits are available at no cost from the refuge office or can be downloaded and printed from the refuge Web site. Each hunter must possess and carry a signed refuge permit while participating in a hunt.

* * * * *

12. Portions of the refuge adjacent to Flint Rock Wildlife Management Area (as specified in the hunt brochure) will be open concurrent with Flint Rock Wildlife Management Area seasons and regulations except only feral hog, grey squirrel, rabbit, and raccoon may be harvested.

C. Big Game Hunting. * * *

* * * * *

4. There is a two deer limit per hunt as specified in condition C8 below, except in the youth hunt where the limit is as specified in C9 below. The limit for turkey is one per hunt. There is no limit on feral hog.

* * * * *

8. The bag limit for white-tailed deer is two deer per scheduled hunt period. We allow hunters to harvest two antlerless deer per scheduled hunt period. We define antlerless deer per State regulations (i.e., un-antlered deer or antlered deer with both antlers less than 5 inches in length). Otherwise, hunters may harvest one antlerless deer and one antlered deer per hunt. Hunters must ensure that antlered deer must have at least 3 points, of 1 inch (2.5 centimeters) or more length.

9. There is one youth hunt, for youth ages 12 to 17, on the St. Marks Unit in an area we will specify in the refuge hunt brochure. Hunters may harvest two deer, either two un-antlered deer as defined in C8 or one un-antlered deer and one antlered deer. An adult age 21 or older acting as a mentor must accompany each youth hunter. One youth turkey hunt will be conducted in a similar manner. The limit will be one gobbler per hunter. Only the youth hunter may handle or discharge firearms. Contact the refuge office for specific dates.

* * * * *

12. Portions of the refuge adjacent to Flint Rock Wildlife Management Area (as specified in the hunt brochure) will be open concurrent with Flint Rock Wildlife Management Area seasons and regulations except only white-tailed deer, feral hog, and turkey may be harvested. We require a refuge permit (signed brochure).

* * * * *

10. Amend § 32.29 Georgia by:

a. Revising paragraph A.3 under Savannah National Wildlife Refuge.

These revisions read as follows:

§ 32.29 Georgia.

* * * * *

Savannah National Wildlife Refuge

A. Migratory Game Bird Hunting. * * *

* * * * *

3. We prohibit hunting on or within 100 yards (90 meters) of U.S. Highway 17, GA Highway 25/SC Highway 170, refuge facilities, road, trails, and railroad rights-of-way, and within areas marked as closed.

* * * * *

11. Amend § 32.31 Idaho by revising the introductory text in paragraph A and by revising paragraphs A.3, B, C, and D under Kootenai Flat National Wildlife Refuge to read as follows:

§ 32.31 Idaho.

* * * * *

Kootenai National Wildlife Refuge

A. Migratory Game Bird Hunting. We allow hunting of goose, duck, and coot on designated areas (designated area changed due to increased size of safety zone) of the refuge in accordance with State and Federal regulations subject to the following conditions:

* * * * *

3. We prohibit the discharge of firearms in the posted retrieving/safety zone.

* * * * *

B. Upland Game Hunting. We allow hunting of forest grouse and wild turkey on that portion of the refuge that lies west of Lion's Den Road in accordance with State regulations subject to the following condition: You may possess only approved nontoxic shotshells (see § 32.2(k)) while in the field.

C. Big Game Hunting. We allow hunting of deer, elk, black bear, moose, and mountain lion on that portion of the refuge that lies west of Lion's Den Road and hunting of deer at an ADA-accessible blind near Aspen Slough in accordance with State regulations and subject to the following conditions:

1. We prohibit all use of dogs for hunting of big game.

2. You may only participate in deer hunting at the ADA-accessible blind with valid State licenses and tags.

3. You may only participate in deer hunting at the ADA-accessible blind with a refuge permit issued through a random drawing for up to four 7-day archery-only permits and up to six 7-day archery/special weapons-only permits.

4. We only allow deer hunting at the ADA-accessible blind using the following weapons: Muzzleloader, archery equipment, crossbow, shotgun using slugs, or handgun using straight-walled cartridges not originally established for rifles.

5. We prohibit use of toxic (lead) ammunition when deer hunting at the ADA-accessible blind.

D. Sport Fishing. We allow sport fishing on Myrtle Creek in accordance with State regulations subject to the following condition: We allow bank fishing only.

* * * * *

12. Amend § 32.32 Illinois by:

a. Removing paragraphs A.1 and A.7; redesignating paragraphs A.2, A.3, A.4, A.5, and A.6 as paragraphs A.1, A.2, A.3, A.4, and A.5, respectively; revising newly designated paragraph A.1; revising paragraphs B.1, C.1, and D.1; and adding paragraphs B.3, C.2, and C.3 under Cypress Creek National Wildlife Refuge.

b. Revising introductory text in paragraph A; revising paragraphs A.2, B, C.1, C.2, and C.3; and adding paragraphs A.3, C.4, C.5, and C.6 under Middle Mississippi River National Wildlife Refuge.

c. Revising paragraph B and adding paragraph C.3 under Two Rivers National Wildlife Refuge.

These additions and revisions read as follows:

§ 32.32 Illinois.

* * * * *

Cypress Creek National Wildlife Refuge

A. Migratory Game Bird Hunting. * * *

1. You must remove all boats, decoys, blinds, blind materials, stands, and platforms (see §§ 27.93 and 27.94 of this chapter) brought onto the refuge at the end of each day's hunt.

* * * * *

B. Upland Game Hunting. * * *

1. Conditions A1, A2, A4, and A5 apply.

* * * * *

3. We allow the use of .22 and .17 caliber rimfire lead ammunition for the taking of small game and furbearers during open season.

C. Big Game Hunting. * * *

1. Conditions A1, A2, A4, and A5 apply.

2. We prohibit deer drives, by person or animal, and participating in deer drives on all refuge divisions.

3. You may only use or possess approved nontoxic shot shells while in the field, including shot shells used for hunting wild turkey (see § 32.2(k)).

D. Sport Fishing. * * *

1. Conditions A1 and A3 apply.

* * * * *

Middle Mississippi River National Wildlife Refuge

A. Migratory Game Bird Hunting. We allow hunting of migratory game birds on the Meissner, Wilkinson, and Beaver Island Divisions in accordance with State regulations and subject to the following conditions:

* * * * *

2. You must remove boats, blinds, blind materials, stands, decoys, and other hunting equipment (see §§ 27.93 and 27.94 of this chapter) from the refuge at the end of each day.

3. We allow portable blinds on a daily basis on a first-come, first-served basis.

B. Upland Game Hunting. We allow hunting of upland game (squirrels, rabbits, and bobwhite quail only) on the refuge in accordance with State regulations and subject to the following conditions:

1. We allow hunting of furbearers only from legal sunrise to legal sunset.

2. You may only use or possess approved nontoxic shot shells while in the field (see § 32.2(k)).

C. Big Game Hunting. * * *

1. Conditions A1 and A2 apply.

2. In the Harlow, Crains, and Meissner Island Divisions you may use only archery equipment to harvest white-tailed deer.

3. You may only use or possess approved nontoxic shot shells while in the field, including shot shells used for hunting wild turkey (see § 32.2(k)).

4. We prohibit deer drives, by person or animal, and participating in deer drives on all refuge divisions.

5. We prohibit placing temporary tree stands in dead or dying trees.

6. You may not remove any tree or limbs greater than 1 inch in diameter.

* * * * *

Two Rivers National Wildlife Refuge

* * * * *

B. Upland Game Hunting. We allow upland game hunting only on the Apple Creek Division and the portion of the Calhoun Division east of the Illinois River Road in accordance with State regulations and subject to the following conditions:

1. We allow hunting from legal sunrise to legal sunset.

2. You may only use or possess approved nontoxic shot shells while in the field, including shot shells used for hunting wild turkey (see § 32.2(k)).

C. Big Game Hunting. * * *

* * * * *

3. Condition B2 applies.

* * * * *

13. Amend § 32.33 Indiana by:

a. Revising paragraphs C.4, C.8, and C.9 and adding paragraphs C.10, C.11, and D.7 under Muscatatuck National Wildlife Refuge.

b. Revising A.2, C.2, C.3, D.2.iv, and D.3 and adding paragraphs A.7, A.8, and B.3 under Patoka River National Wildlife Refuge and Management Area.

These additions and revisions read as follows:

§ 32.33 Indiana.

* * * * *

Muscatatuck National Wildlife Refuge

* * * * *

C. Big Game Hunting. * * *

* * * * *

4. You may take only two deer per day from the refuge, only one of which may be an antlered buck.

* * * * *

8. We permit archery deer hunting in designated areas after National Wildlife Refuge Week during the State season with the exceptions that archery deer hunting is closed during the youth deer hunt in November and during the State muzzleloader season.

9. Turkey hunting ends at 1 p.m. daily.

10. We prohibit the use or possession of game trail cameras on the refuge.

11. We require you to remove arrows from crossbows during transport in a vehicle.

D. Sport Fishing. * * *

* * * * *

7. We allow only children under 18 years of age to fish in the Office Pond.

* * * * *

Patoka River National Wildlife Refuge and Management Area

A. Migratory Game Bird Hunting. * * *

* * * * *

2. You must remove all boats, decoys, blinds, and blind materials after each day's hunt (see §§ 27.93 and 27.94 of this chapter).

* * * * *

7. We prohibit hunting and the discharge of a weapon within 150 yards of any dwelling or any building that may be occupied by people, pets, or livestock.

8. You may only use or possess approved nontoxic shot shells while in the field, including shot shells used for hunting wild turkey (see § 32.2(k)).

B. Upland Game Hunting. * * *

* * * * *

3. Conditions A7 and A8 apply.

C. Big Game Hunting. * * *

* * * * *

2. We prohibit marking trails with tape, ribbons, paper, paint, tacks, tree blazes, or other devices.

3. Conditions A6 through A8 apply.

D. Sport Fishing.

* * * * *

2. * * *

* * * * *

iv. You may not collect or harvest minnows, crayfish, or any reptiles and amphibians (see § 27.21 of this chapter).

3. You must remove boats at the end of each day's fishing activity (see § 27.93 of this chapter).

* * * * *

14. Amend § 32.34 Iowa by:

a. Revising paragraphs A, B, C.1, and C.2 and removing paragraph C.3 under Neal Smith National Wildlife Refuge.

b. Redesignating paragraphs A.1, A.2, A.3, A.4, A.5, A.6, A.7, and A.8 as paragraphs A.2, A.3, A.4, A.5, A.6, A.7, A.8, and A.9, respectively; redesignating paragraphs B.1, B.2, B.3, and B.4 as paragraphs B.2, B.3, B.4, and B.5, respectively; redesignating paragraphs C.1, C.2, and C.3 as paragraphs C.2, C.3, and C.4, respectively; revising the introductory text in paragraphs A, B, and C; revising paragraphs B.5 and C.4; and adding paragraphs A.1, B.1, and C.1 under Northern Tallgrass Prairie National Wildlife Refuge.

c. Revising the entry for Port Louisa National Wildlife Refuge.

These additions and revisions read as follows:

§ 32.34 Iowa.

* * * * *

Neal Smith National Wildlife Refuge

A. Migratory Game Bird Hunting. We allow the hunting of duck, goose, and coot on designated areas of the refuge in accordance with State and Federal regulations and subject to the following conditions:

1. We prohibit all hunting February 1 through August 31 due to conflict with existing appropriate and compatible uses.

2. You may only possess approved nontoxic shot (see § 32.2(k)) while hunting for any permitted bird, including waterfowl and wild turkey, or other upland or small game.

3. We allow entry into the refuge 1 hour before sunrise and require hunters to leave the refuge no later than 1 hour after sunset.

4. We prohibit shooting on or over any refuge road within 50 feet (15 meters) from the centerline.

5. You must possess and carry a refuge permit (free brochure available at the refuge visitor center).

6. We allow the use of dogs for waterfowl, pheasant, and quail hunting only.

B. Upland Game Hunting. We allow hunting of ring-necked pheasant, bobwhite quail, pigeon, mourning dove, crow, cottontail rabbit, gray and fox squirrel, and fall wild turkey (2 weeks within the season) on designated areas of the refuge in accordance with State regulations subject to the following condition: Conditions A1 to A6 apply.

C. Big Game Hunting. * * *

1. Conditions A1 and A3 to A5 apply.

2. We allow the use of portable stands and blinds for hunting, and hunters must remove them at the end of each day (see § 27.93 of this chapter).

* * * * *

Northern Tallgrass Prairie National Wildlife Refuge

A. Migratory Game Bird Hunting. We allow hunting of duck, goose, merganser, coot, rail (Virginia and Sora only), woodcock, and snipe on designated areas in accordance with State regulations and subject to the following conditions:

1. For units adjacent to and managed by Neal Smith National Wildlife Refuge, you must follow the refuge-specific regulations provided in this section of the regulations for Neal Smith National Wildlife Refuge.

* * * * *

B. Upland Game Hunting. We allow the hunting of ring-necked pheasant, bobwhite quail, gray partridge, rabbit (cottontail and jack), squirrel (fox and gray), groundhog, raccoon, opossum, fox (red and gray), coyote, badger, striped skunk, and crow on designated areas of the refuge in accordance with State regulations and subject to the following conditions:

1. For units adjacent to and managed by Neal Smith National Wildlife Refuge, you must follow the refuge-specific regulations provided in this section of the regulations for Neal Smith National Wildlife Refuge.

* * * * *

5. Conditions A8 and A9 apply.

* * * * *

C. Big Game Hunting. We allow the hunting of deer and turkey on designated areas of the refuge in accordance with State regulations and subject to the following conditions:

1. For units adjacent to and managed by Neal Smith National Wildlife Refuge, you must follow the refuge-specific regulations provided in this section of the regulations for Neal Smith National Wildlife Refuge.

* * * * *

4. Conditions A6, A8, and A9 apply.

* * * * *

Port Louisa National Wildlife Refuge

A. Migratory Game Bird Hunting. We allow hunting of duck, goose, teal, brant, merganser, coot, sora and Virginia rail, dove, woodcock and snipe on Iowa River Corridor Project lands in accordance with State regulations and subject to the following conditions:

1. You may possess only approved nontoxic shot while hunting migratory birds (see § 32.2(k)).

2. You must remove boats, decoys, and portable blinds at the end of each day (see § 27.93 of this chapter).

B. Upland Game Hunting. We allow hunting of upland game in accordance with State regulations and subject to the following condition: You may only possess approved nontoxic shot while hunting upland game (see § 32.2(k)); you may use lead shot to hunt turkey.

C. Big Game Hunting. We allow hunting of big game in accordance with State regulations and subject to the following condition: We only allow the use of portable stands and you must remove them at the end of each day (see § 27.93 of this chapter).

D. Sport Fishing. We allow sport fishing on all areas of the refuge in accordance with State regulations and subject to the following condition: You must remove boats and all other fishing devices at the end of each day's fishing.

* * * * *

15. Amend § 32.38 Maine by redesignating paragraphs A.5, A.6, and A.7 as paragraphs A.6, A.7, and A.8, respectively; adding a new paragraph A.5; revising the introductory text in paragraph B; and revising paragraphs A.1, A.4, B.1, B.2, B.3, and C under Rachel Carson National Wildlife Refuge to read as follows:

§ 32.38 Maine.

* * * * *

Rachel Carson National Wildlife Refuge

A. Migratory Game Bird Hunting. * * *

1. Prior to entering designated refuge hunting areas, you must obtain a refuge hunting permit (FWS Form 3-2357), pay a recreation fee, and sign and carry the permit at all times.

* * * * *

4. We open Designated Youth Hunting Areas to hunters age 15 and under who possess and carry a refuge hunting permit. Youth hunters must be accompanied by an adult age 18 or older. The accompanying adult must possess and carry a refuge hunting permit and may also hunt.

5. You may only possess approved nontoxic shot for hunting (see § 32.2(k)) on the refuge.

* * * * *

B. Upland Game Hunting. We allow hunting of pheasant, quail, and grouse on designated areas of the Brave Boat Harbor, Lower Wells, Upper Wells, Mousam River, Goose Rocks, Goosefare Brook, and Spurwink River division of the refuge in accordance with State regulations and subject to the following conditions:

1. Conditions A1 and A7 apply.

2. You may take pheasant, quail, and grouse by falconry during State seasons.

3. You may only possess approved nontoxic shot for hunting (see § 32.2(k)) on the refuge.

* * * * *

C. Big Game Hunting. We allow hunting of white-tailed deer and turkey on designated areas of the Brave Boat Harbor, Lower Wells, Upper Wells, Mousam River, Goose Rocks, Little River, Goosefare Brook, and Spurwink River divisions of the refuge in accordance with State regulations and subject to the following conditions:

1. Conditions A1, A4, and A7 apply.

2. We allow hunting of deer and turkey with shotgun and archery only. We prohibit rifles and muzzleloading firearms for hunting.

3. We allow turkey hunting during the fall season only, as designated by the State. All State regulations governing the hunting of turkey will be followed.

4. We allow portable tree stands, ladders, and blinds only, and they must be removed daily (see § 27.93 of this chapter). The use of nails, wire, screws or bolts to attach a stand to a tree, or hunting from a tree into which a metal object has been driven to support a hunter is prohibited. You must keep vegetation disturbance (including tree limbs) to a minimum (see § 32.2(i)).

5. We close the Moody and Biddeford Pool divisions of the refuge to white-tailed deer and turkey hunting.

6. We allow archery on only those areas of the Little River division open to hunting.

7. We allow hunting of fox and coyote with archery or shotgun with a refuge big game permit, during State firearm deer season. You may only possess approved nontoxic shot for hunting (see § 32.2(k)) on the refuge.

* * * * *

16. Amend § 32.39 Maryland by removing paragraphs A.9.vi and D.9; redesignating paragraphs D.10, D.11, D.12, D.13, D.14, D.15, and D.16 as paragraphs D.9, D.10, D.11, D.12, D.13, D.14, and D.15, respectively; revising paragraphs A.9.iv, A.9.v, A.13, B.8, C.3.ii, C.6, and C.12; and revising newly designated paragraphs D.14.i and D.15.i under Patuxent Research Refuge to read as follows:

§ 32.39 Maryland.

* * * * *

Patuxent Research Refuge

A. Migratory Game Bird Hunting. * * *

* * * * *

9. * * *

* * * * *

iv. You may hunt from the roadside, except on the Wildlife Loop, at designated areas, if you possess a Maryland Department of Natural Resources issued “Universal Disability Pass”.

v. You may hunt from the roadside for waterfowl at the five designated hunting blind sites at Lake Allen.

* * * * *

13. We require waterfowl hunters to use trained adult retrieving dogs while hunting duck and goose within 50 yards (45 meters) of the following impounded waters: Blue Heron Pond, Lake Allen, New Marsh, and Wood Duck Pond.

i. We require dogs to be under the immediate control of their owner at all times (see § 26.21(b) of this chapter).

* * * * *

B. Upland Game Hunting. * * *

* * * * *

8. We select turkey hunters by a computerized lottery for youth, disabled, and general public hunts. We require Maryland Department of Natural Resources required documentation to accommodate hunters with disabilities.

* * * * *

C. Big Game Hunting. * * *

* * * * *

3. * * *

* * * * *

ii. We prohibit the discharging of any hunting weapons before or after legal shooting hours, including the unloading of muzzleloaders.

* * * * *

6. We require bow hunters to wear either a cap of solid-fluorescent-orange color at all times or a vest or jacket containing back and front panels of at least 250 square inches (1,625 square centimeters) of solid-fluorescent-orange color when moving to and from their vehicle to their deer stand or their hunting spot and while tracking or dragging out their deer. We do not require bow hunters to wear solid-fluorescent-orange when positioned to hunt except during the North Tract Youth Firearms Deer Hunts, the muzzleloader seasons, and the firearms seasons, when they must wear it at all times.

* * * * *

12. If you wish to track wounded deer beyond 2 hours after legal sunset, you must gain consent from a refuge law enforcement officer. We prohibit tracking 3 hours after legal sunset. You must make a reasonable effort to retrieve the wounded deer, which includes next-day tracking. There is no tracking on Sundays and Federal holidays except on a case-by-case basis. Hunters authorized to track on Sundays or Federal holidays must be accompanied afield by a refuge law enforcement officer.

* * * * *

D. Sport Fishing. * * *

* * * * *

14. * * *

i. Conditions D1 through D13 apply.

* * * * *

15. * * *

i. Conditions D1 through D12 apply.

* * * * *

17. Amend § 32.40 Massachusetts by adding, in alphabetical order, an entry for Silvio O. Conte National Fish and Wildlife Refuge to read as follows:

§ 32.40 Massachusetts.

* * * * *

Silvio O. Conte National Fish and Wildlife Refuge

A. Migratory Game Bird Hunting. [RESERVED]

B. Upland Game Hunting. [RESERVED]

C. Big Game Hunting. [RESERVED]

D. Sport Fishing. [RESERVED]

* * * * *

18. Amend § 32.41 Michigan by revising paragraph C.3 and adding paragraph C.8 under Detroit River International Wildlife Refuge to read as follows:

§ 32.41 Michigan.

* * * * *

Detroit River International Wildlife Refuge

* * * * *

C. Big Game Hunting. * * *

* * * * *

3. We allow only single-projectile shells for firearm deer hunting. We prohibit the use of buckshot for any hunting on the refuge.

* * * * *

8. The Fix Unit is closed to firearm deer hunting. We allow only archery deer hunting in the Fix Unit.

* * * * *

19. Amend § 32.42 Minnesota by:

a. Revising the introductory text in paragraph A; revising paragraphs A.1, A.2, and A.5; adding paragraph A.9; revising paragraphs C.1 and C.2; removing paragraphs C.3, C.7, and C.10; redesignating paragraphs C.4, C.5, C.6, C.8, and C.9 as paragraphs C.3, C.4, C.5, C.6, and C.7, respectively; revising newly designated paragraph C.6; and adding paragraph C.8 under Agassiz National Wildlife Refuge.

b. Revising paragraph B under Big Stone Wetland Management District.

c. Revising paragraphs C.1, C.2, and C.8 and removing paragraph C.11 under Crane Meadows National Wildlife Refuge.

d. Revising paragraph B under Detroit Lakes Wetland Management District.

e. Revising paragraphs A.2 and B under Fergus Falls Wetland Management District.

f. Revising paragraph B under Litchfield Wetland Management District.

g. Revising paragraphs A.2, B, and C.2 under Morris Wetland Management District.

h. Adding paragraph C.3 under Northern Tallgrass Prairie National Wildlife Refuge.

i. Revising paragraphs A.2, A.3, A.5, B.3, C.1, C.7, and D under Sherburne National Wildlife Refuge.

j. Revising paragraph B under Windom Wetland Management District.

These additions and revisions read as follows:

§ 32.42 Minnesota.

* * * * *

Agassiz National Wildlife Refuge

A. Migratory Game Bird Hunting. We allow hunting of waterfowl on designated areas of the refuge in accordance with State regulations and subject to the following conditions:

1. We allow a youth hunt only in designated areas in accordance with State regulations.

2. The refuge is closed from 7:00 p.m. to 5:30 a.m.

* * * * *

5. You must remove all personal property, which includes stands, boats, decoys, and blinds brought onto the refuge, each day of hunting (see §§ 27.93 and 27.94 of this chapter).

* * * * *

9. We allow the public onto the refuge the day prior to the opening of the season for scouting purposes.

* * * * *

C. Big Game Hunting. * * *

1. We are currently closed to moose hunting.

2. Conditions A2 through A5, A7, A8 and A9 apply.

* * * * *

6. We prohibit hunters from occupying illegally set up or constructed ground and tree stands (see conditions A5 and C5).

* * * * *

8. Shooting on, from, over, across, or within 30 feet of a road edge open to public vehicle transportation at a big game animal or a decoy of a big game animal is prohibited.

* * * * *

Big Stone Wetland Management District

* * * * *

B. Upland Game Hunting. We allow upland game hunting throughout the district in accordance with State regulations and subject to the following conditions:

1. Conditions A3 through A5 apply.

2. You may only use or possess approved nontoxic shot shells while in the field, including shot shells used for hunting wild turkey (see § 32.2(k)).

* * * * *

Crane Meadows National Wildlife Refuge

* * * * *

C. Big Game Hunting. * * *

1. We only allow an archery deer hunt for youth hunters and a firearm deer hunt for persons with disabilities by special use permit (FWS Form 3-1383-G).

2. We only allow a turkey hunt for youth hunters and persons with disabilities by special use permit (FWS Form 3-1383-G).

* * * * *

8. We prohibit entry to hunting areas earlier than 2 hours before legal shooting hours.

* * * * *

Detroit Lakes Wetland Management District

* * * * *

B. Upland Game Hunting. We allow upland game hunting in accordance with State regulations throughout the district (except that we allow no hunting on the refuge headquarters Waterfowl Production Area [WPA] in Becker County, the Hitterdal WPA in Clay County, and the McIntosh WPA in Polk County) and subject to the following conditions:

1. Conditions A3 through A5 apply.

2. You may only use or possess approved nontoxic shot shells while in the field, including shot shells used for hunting wild turkey (see § 32.2(k)).

* * * * *

Fergus Falls Wetland Management District

A. Migratory Game Bird Hunting. * * *

* * * * *

2. You must remove boats, decoys, blinds, and blind materials (see § 27.93 of this chapter) brought onto the WPAs at the end of each day's hunt.

* * * * *

B. Upland Game Hunting. We allow upland game hunting throughout the district (except that we prohibit hunting on the Townsend, Mavis, Gilmore, and designated portions of Knollwood Waterfowl Production Areas (WPAs) in Otter Tail County, and Larson WPA in Douglas County) in accordance with State regulations and subject to the following conditions:

1. Conditions A2, A3, and A6 apply.

2. You may only use or possess approved nontoxic shot shells while in the field, including shot shells used for hunting wild turkey (see § 32.2(k)).

* * * * *

Litchfield Wetland Management District

* * * * *

B. Upland Game Hunting. We allow upland game hunting throughout the district (except we prohibit hunting on that part of the Phare Lake Waterfowl Production Area in Renville County) in accordance with State regulations and subject to the following conditions:

1. Conditions A1, A4, and A5 apply.

2. You may only use or possess approved nontoxic shot shells while in the field, including shot shells used for hunting wild turkey (see § 32.2(k)).

* * * * *

Morris Wetland Management District

A. Migratory Game Bird Hunting. * * *

* * * * *

2. You must remove boats, decoys, blinds, and blind materials (see § 27.93 of this chapter) at the end of hunting hours.

* * * * *

B. Upland Game Hunting. We allow hunting of upland game, except that we prohibit hunting on the designated portions of the Edward-Long Lake Waterfowl Production Area in Stevens County, in accordance with State regulations and subject to the following conditions:

1. Conditions A2 through A4 apply.

2. You may only use or possess approved nontoxic shot shells while in the field, including shot shells used for hunting wild turkey (see § 32.2(k)).

C. Big Game Hunting. * * *

* * * * *

2. You must remove all portable hunting stands and blinds each day at the close of hunting hours (see § 27.93 of this chapter).

* * * * *

Northern Tallgrass Prairie National Wildlife Refuge

* * * * *

C. Big Game Hunting. * * *

* * * * *

3. You may only use or possess approved nontoxic shot shells while in the field, including shot shells used for hunting wild turkey (see § 32.2(k)).

* * * * *

Sherburne National Wildlife Refuge

A. Migratory Game Bird Hunting. * * *

* * * * *

2. We allow non-motorized boats in areas open to waterfowl hunting during the waterfowl hunting season, and they must be launched at designated access sites.

3. You must remove boats, decoys, and blinds from the refuge following each day's hunt.

* * * * *

5. We prohibit hunting from March 1 through August 31.

* * * * *

B. Upland Game Hunting. * * *

* * * * *

3. Conditions A5 through A7 apply.

* * * * *

C. Big Game Hunting. * * *

1. The refuge is closed to turkey hunting, except we allow a turkey hunt for youth hunters and persons with disabilities by special use permit (FWS Form 3-1383-G).

* * * * *

7. Turkey hunters may possess only approved nontoxic shot while in the field (see § 32.2(k)).

* * * * *

D. Sport Fishing. Fishing is permitted on the St. Francis River and Battle Brook during daylight hours in accordance with State regulations and subject to the following conditions:

1. From March 1 through August 31 (the refuge Wildlife Sanctuary period), fishing is only permitted from non-motorized boats on the designated canoe route and on banks within 100 yards (both upstream and downstream) of designated access points.

2. We prohibit the taking of any mussel (clam), crayfish, frog, leech, and turtle species by any method on the refuge (see § 27.21 of this chapter).

3. We prohibit the use of dip nets, traps, or seines for collecting bait.

* * * * *

Windom Wetland Management District

* * * * *

B. Upland Game Hunting. We allow hunting of upland game throughout the district, except that you may not hunt on the Worthington Waterfowl Production Area (WPA) in Nobles County, Headquarters WPA in Jackson County, or designated portions of the Wolf Lake WPA in Cottonwood County, in accordance with State regulations and subject to the following conditions:

1. Conditions A3 through A5 apply.

2. You may only use or possess approved nontoxic shot shells while in the field, including shot shells used for hunting wild turkey (see § 32.2(k)).

* * * * *

20. Amend § 32.44 Missouri by:

a. Revising the entry for Middle Mississippi River National Wildlife Refuge.

b. Revising the introductory text in paragraphs A and B; revising paragraphs A.3, A.6, B.1, B.2, B.5, B.6, B.7, and C; redesignating paragraphs A.7 and A.8 as A.8, and A.9; and adding paragraphs A.7, and B.8 under Mingo National Wildlife Refuge.

These additions and revisions read as follows:

§ 32.44 Missouri.

* * * * *

Middle Mississippi River National Wildlife Refuge

Refer to § 32.32 (Illinois) for Missouri regulations.

* * * * *

Mingo National Wildlife Refuge

A. Migratory Game Bird Hunting. We allow waterfowl hunting in Pool 7 and Pool 8 in accordance with State and Federal regulations and subject to the following conditions:

* * * * *

3. We prohibit the use of paint, non-biodegradable flagging, reflectors, tacks, or other manmade materials to mark trails or hunting locations (see § 27.61 of this chapter).

* * * * *

6. We require hunters to go through the Missouri Department of Conservation daily draw process at Duck Creek Conservation Area to hunt in Pool 7 and Pool 8.

7. We will only open Pool 7 for waterfowl hunting 3 days a week, when conditions allow.

* * * * *

B. Upland Game Hunting. We allow hunting of squirrel, raccoon, and bobcat in designated areas of the refuge in accordance with State regulations and subject to the following conditions:

1. Conditions A3, A8, and A9 apply.

2. We allow hunter access from 1½ hours before legal shooting time until 1½ hours after legal shooting time.

* * * * *

5. We allow squirrel hunting from the State opening day until the day before the State opening of archery deer season.

6. You may only use or possess approved nontoxic shot shells while in the field (see § 32.2(k)) and rifles chambered for rimfire cartridges.

7. Archery hunters may take squirrels, raccoons, and bobcats while archery deer hunting.

8. We allow raccoon hunting by special use permit during the Statewide raccoon season.

C. Big Game Hunting. We allow big game hunting in designated areas of the refuge in accordance with State regulations subject to the following conditions:

1. Conditions A3, A5, A8, A9, and B2 apply.

2. We require that all hunters register at the hunter sign-in stations and complete the Big Game Harvest Report (FWS Form 3-2359) located at the exit kiosks prior to exiting the refuge.

3. We allow archery hunting for deer and turkey during the fall season.

4. We allow spring turkey hunting. You may only use or possess approved nontoxic shot shells while in the field, including shot shells used for hunting wild turkey (see § 32.2(k)).

5. You must remove all boats brought onto the refuge at the end of each day (see § 27.93 of this chapter).

6. We allow archery hunting in the Expanded General Hunt Area through October 31.

7. We allow portable tree stands only from 2 weeks before to 2 weeks after the State archery deer season with the following exception: In the Expanded General Hunt Area, you must remove all personal property.

8. We allow only one tree stand per deer hunter.

9. We only allow non-motorized boats in the Mingo Wilderness Area.

10. We require archery deer hunters to wear a hunter-orange (i.e., blaze or international orange) hat and a hunter-orange shirt, vest, or coat. These hunter-orange clothes need to be plainly visible from all sides while scouting or hunting during the overlapping portion of the squirrel, archery deer, and turkey seasons. Camouflage orange does not satisfy this requirement.

* * * * *

21. Amend § 32.45 Montana by:

a. Removing paragraph A.7; redesignating paragraphs A.3, A.4, A.5, and A.6 as paragraphs A.4, A.5, A.6, and A.7, respectively; revising paragraph B.1; and adding paragraphs A.3 and B.4 under Benton Lake National Wildlife Refuge.

b. Revising the introductory text in paragraphs A, B, and C under Benton Lake Wetland Management District.

c. Revising paragraphs A.1, A.3, A.5, A.7, A.13, C.1, C.3, and C.4 and adding paragraphs A.19, C.10, and C.11 under Lee Metcalf National Wildlife Refuge.

d. Revising paragraphs B.1, B.3, B.5, B.6, B.7, B.9, C.1, C.2, and C.3 and removing paragraphs C.4, C.5, C.6, C.7, C.8, C.9, C.10, and C.11 under Lost Trail National Wildlife Refuge.

e. Revising paragraphs A.1, A.2, B.1, B.2, C.1, and D; redesignating paragraph A.3 as paragraph A.6; and adding paragraphs A.3, A.4, A.5, A.7, C.2, and C.3 under Northwest Montana Wetland Management District.

f. Revising paragraphs A.5 and C.10 under Red Rock Lakes National Wildlife Refuge.

g. Revising paragraph A under Swan River National Wildlife Refuge.

These additions and revisions read as follows:

§ 32.45 Montana.

* * * * *

Benton Lake National Wildlife Refuge

A. Migratory Game Bird Hunting. * * *

* * * * *

3. We allow hunting during youth waterfowl hunts in accordance with State regulations.

* * * * *

B. Upland Game Hunting. * * *

1. Conditions A2 and A7 apply.

* * * * *

4. We allow hunting during youth pheasant hunts in accordance with State regulations.

* * * * *

Benton Lake Wetland Management District

A. Migratory Game Bird Management. We allow migratory game bird hunting on Waterfowl Production Areas (WPA) throughout the District, excluding Sands WPA in Hill County and H2-0 WPA in Powell County, in accordance with State regulations and subject to the following conditions:

* * * * *

B. Upland Game Hunting. We allow the hunting of coyotes, skunks, red fox, raccoons, hares, rabbits, and tree squirrels on Waterfowl Production Areas (WPAs) throughout the District, excluding Sands WPA in Hill County and H2-0 WPA in Powell County, in accordance with State regulations and subject to the following conditions:

* * * * *

C. Big Game Hunting. We allow big game hunting on WPAs throughout the District, excluding Sands WPA in Hill County and H2-0 WPA in Powell County, in accordance with State regulations and subject to the following condition: Condition B2 applies.

* * * * *

Lee Metcalf National Wildlife Refuge

A. Migratory Game Bird Hunting. * * *

1. Hunting Access: Hunters must enter and exit the Waterfowl Hunt Area (see map in refuge Hunting and Fishing brochure) through the Waterfowl Hunt Area parking lot. All hunters, except those with a Montana disability license, must park in the Waterfowl Hunt Area parking lot to access the Waterfowl Hunt Area. For those hunters with Montana disability licenses, contact the Refuge Manager by phone or email for disability guidelines. Hunters must walk to the blind selected along mowed trails designated in the refuge Hunting and Fishing brochure. Legal entry time into the hunting area is no earlier than 2 hours before legal shooting hours. Wildlife observation, scouting, and loitering during waterfowl hunting season are prohibited at the Waterfowl Hunting Area parking lot and on the refuge road leading to the Waterfowl Hunt Area parking lot.

* * * * *

3. Registration (Kiosk Sign-In/Sign-Out box): Each hunter must complete the Migratory Bird Hunt Report (FWS Form 3-2361), must set the appropriate blind selector (metal flip tag) before and after hunting, and must record hunting data (hours hunted and birds harvested) on FWS Form 3-2361 before departing the hunting area.

* * * * *

5. We prohibit attempting to “reserve” a blind for use later in the day by depositing a vehicle or other equipment on the refuge. A hunter must be physically present in the hunting area in order to use a blind. The exceptions are blinds 2 and 7, which may be reserved for hunters with disabilities.

* * * * *

7. Hunters with a documented mobility disability (you must have a current year Resident with a Disability Conservation License issued by Montana Fish, Wildlife and Parks) may reserve an accessible blind in advance by contacting a refuge law enforcement officer.

* * * * *

13. We prohibit boats, fishing, and fires (see § 27.95 of this chapter).

* * * * *

19. Any mechanical decoy powered by battery or solar usage is prohibited.

* * * * *

C. Big Game Hunting. * * *

1. Hunting Access: Hunters must enter and exit the hunt areas (see map in refuge Hunting and Fishing brochure) through the designated Hunter Access Parking sites. We open access points to hunters intending to immediately hunt on the refuge. We prohibit wildlife observation, scouting, and loitering at access points and parking areas. Hunters may only enter the hunt area 2 hours prior to legal hunting hours and must exit no later than 2 hours after legal hunting hours.

* * * * *

3. Registration (Sign-In/Sign-Out box): Each hunter must complete the Big Game Harvest Report (FWS Form 3-2359) before departing the hunting area.

4. Tree Stands and Ground Blinds: We allow each hunter the use of portable tree stands or ground blinds. All tree stands and ground blinds must be identified with a tag that has the owner's name and Montana archery license (ALS) number on it. We prohibit hunters leaving each stand/blind unattended for more than 72 hours.

* * * * *

10. Rallying game to another hunter and/or deer drives is prohibited.

11. We prohibit the installation or use of remote cameras on the refuge.

* * * * *

Lost Trail National Wildlife Refuge

* * * * *

B. Upland Game Hunting. * * *

1. We do not allow hunting in areas posted as “Closed to Hunting” and identified in the public use leaflet.

* * * * *

3. We allow use of riding or pack stock on designated access routes through the refuge to access off-refuge lands as identified in the public use leaflet.

* * * * *

5. Hunters may possess only approved nontoxic shot while in the field (see § 32.2(k)).

6. We prohibit overnight camping and open fires (see § 27.95(a) of this chapter).

7. We prohibit retrieval of game in areas closed to hunting without a refuge retrieval permit.

* * * * *

9. We allow parking in designated areas only as identified in the public use leaflet.

C. Big Game Hunting. * * *

1. Conditions B1 through B9 apply.

2. The first week of the archery elk and deer hunting season and the first week of general elk and deer hunting season are open to youth-only (ages 12-15 only) hunting. A non-hunting adult at least 18 years of age must accompany the youth hunter in the field.

3. Persons assisting disabled hunters must not be afield with a hunting firearm, bow, or other hunting device.

* * * * *

Northwest Montana Wetland Management District

A. Migratory Game Bird Hunting. * * *

1. Hunters must remove all boats, decoys, portable blinds (including those made of native materials), boat blinds, and all other personal property at the end of each day (see §§ 27.93 and 27.94 of this chapter).

2. We prohibit motorboats except on the Flathead and Smith Lake Waterfowl Production Areas (WPAs) in Flathead County. Motorboats must be operated at no wake speeds.

3. We prohibit the construction or use of permanent blinds, stands, or scaffolds.

4. We allow the use of hunting dogs, provided the dog is under the immediate control of the hunter at all times during the State-approved hunting season. Commercial dog trials are not allowed. Pets must be on a leash at all other times.

5. Shotgun hunters may possess only approved nontoxic shot while in the field (see § 32.2(k)).

* * * * *

7. We prohibit overnight camping and open fires (see § 27.95(a) of this chapter).

B. Upland Game Hunting. * * *

1. We prohibit hunting with a shotgun capable of holding more than three shells.

2. Conditions A1 through A7 apply.

* * * * *

C. Big Game Hunting. * * *

1. We allow portable tree stands and/or portable ground blinds; however, hunters must remove them and all other personal property at the end of each day (see § 27.93 of this chapter). We prohibit construction and/or use of tree stands or portable ground blinds from dimensional lumber. We prohibit the use of nails, wire, screws, or bolts to attach a stand to a tree or hunting from a tree into which a metal object has been driven (see § 32.2(i)).

2. Conditions A2, A3, A6, A7 and B1 apply.

3. Flathead, Blasdel, and Batavia WPAs are restricted to hunting with archery equipment, shotgun, traditional handgun, muzzleloader, or crossbow only.

D. Sport Fishing. We allow sport fishing on all Waterfowl Production Areas (WPAs) throughout the wetland district in accordance with State law (Flathead County WPAs) and per Joint State and confederated Salish and Kootenai Tribal regulations (Lake County WPAs) and subject to the following conditions:

1. We prohibit leaving or dumping any dead animal, fish or fish entrails, garbage, or litter on the refuge (see § 27.94 of this chapter).

2. We prohibit all public access on WPAs from March 1 to July 15 (Flathead County WPAs) each year to protect nesting birds.

3. Conditions A2 and A7 apply.

* * * * *

Red Rock Lakes National Wildlife Refuge

A. Migratory Game Bird Hunting. * * *

* * * * *

5. We prohibit camping along roadsides. We allow camping only in two established campgrounds. We restrict camping to 16 consecutive days within any 30-day period. We prohibit horses in the campgrounds. From March 1 to December 1, all bear attractants including, but not limited to, food, garbage, and carcasses or parts thereof, must be acceptably stored at night (unless in immediate use) and during the day if unattended. Acceptably stored means any of the following:

i. Suspended at least 10 feet high and 4 feet from any vertical support 100 yards from any camp or hiking trail;

ii. Secured in a certified bear safe container; or

iii. Secured in a hard-sided vehicle, including an enclosed camper or horse trailer.

* * * * *

C. Big Game Hunting. * * *

* * * * *

10. We prohibit hunting and/or shooting from or onto refuge lands from within 50 yards (45 meters) of the centerline of any public road open to motorized vehicles.

* * * * *

Swan River National Wildlife Refuge

A. Migratory Game Bird Hunting. We allow hunting of geese, ducks, and coots on designated areas of the refuge subject to the following condition: Hunters may possess only approved nontoxic shot while in the field (see § 32.2(k)).

* * * * *

22. Amend § 32.46 Nebraska by:

a. Revising paragraphs C.1, C.2, C.4, and C.5; redesignating paragraphs C.6, C.7, and C.8 as paragraphs C.7, C.8, and C.9, respectively; revising newly designated paragraph C.9; and adding paragraphs C.6, C.10, C.11, C.12, C.13, D.3, and D.4 under Fort Niobrara National Wildlife Refuge.

b. Revising the entry for Valentine National Wildlife Refuge.

These additions and revisions read as follows:

§ 32.46 Nebraska.

* * * * *

Fort Niobrara National Wildlife Refuge

* * * * *

C. Big Game Hunting. * * *

1. We require the submission of a Big/Upland Game Hunt Application (FWS Form 3-2356). We require hunters to carry a signed refuge hunting access permit (hunt application signed by the refuge officer) while hunting. We require hunters to complete a Big Game Harvest Report (FWS Form 3-2359) and return it to the refuge at the conclusion of the hunting season.

2. We allow deer hunting with muzzleloader and archery equipment. We prohibit deer hunting with firearms capable of firing cartridge ammunition.

* * * * *

4. We allow deer hunting in the area defined as, “Those refuge lands situated north and west of the Niobrara River.” We allow access to this area only from designated refuge parking areas and the Niobrara River.

5. We prohibit hunting within 200 yards (180 meters) of any public use facility.

6. We allow hunter access from 2 hours before legal sunrise until 2 hours after legal sunset.

* * * * *

9. We require tree stands, elevated platforms, and ground blinds to be removed daily. We require hunters to clearly label unattended tree stands, elevated platforms, and ground blinds with the hunter's name and address or hunting license number legible from the ground. Tree stands, elevated platforms, and/or ground blinds may be put up no earlier than the opening day of deer season and must be removed by the last day of deer season.

10. We prohibit hunting during the Nebraska November Firearm Deer Season.

11. We prohibit the use of game carts or any other wheeled device to retrieve game on the Wilderness Area portion of the refuge that is opened for hunting.

12. We prohibit the marking of any tree or other refuge feature with reflectors, flagging, paint, or other substances.

13. We prohibit the use of electronic or photographic trail monitoring devices.

D. Sport Fishing. * * *

* * * * *

3. We prohibit the take of baitfish, reptiles, and amphibians.

4. We prohibit use or possession of alcoholic beverages while fishing on refuge lands and waters.

* * * * *

Valentine National Wildlife Refuge

A. Migratory Game Bird Hunting. We allow hunting of waterfowl and coots on designated areas of the refuge in accordance with State regulations and subject to the following refuge-specific regulations:

1. We close the refuge to the general public from legal sunset to legal sunrise; however we allow hunter access from 2 hours before legal sunrise to 2 hours after legal sunset.

2. We only allow you to unleash dogs used to locate, point, and retrieve upland and small game and migratory birds on the refuge while hunting (see § 26.21(b) of this chapter).

B. Upland Game Hunting. We allow hunting of sharp-tailed grouse, prairie chicken, ring-necked pheasant, dove, and coyote on designated areas of the refuge in accordance with State regulations and subject to the following refuge-specific regulations:

1. Conditions A1 and A2 apply.

2. Coyote hunting is allowed from the Saturday closest to November 13 through March 15. Shooting hours are ½ hour before sunrise to ½ hour after sunset. The use of dogs or bait to hunt coyotes is prohibited.

C. Big Game Hunting. We allow hunting of white-tailed and mule deer on designated areas of the refuge in accordance with State regulations and subject to the following refuge-specific condition: Condition A1 applies.

D. Sport Fishing. We allow fishing on designated areas of the refuge in accordance with State regulations and subject to the following refuge-specific regulations:

1. We close the refuge to the general public from legal sunset to legal sunrise; however anglers may enter the refuge 1 hour before legal sunrise and remain 1.5 hours after legal sunset.

2. We prohibit the take of reptiles, amphibians, and minnows, with the exception that bullfrogs may be taken on refuge lakes open to fishing.

* * * * *

23. Amend § 32.50 New Mexico by:

a. Revising paragraphs A.2.i, A.2.ii, A.2.iii, A.2.iv, A.5, A.8, B.2.iii, and C.2 and adding paragraph B.2.iv under Bitter Lake National Wildlife Refuge.

b. Revising the entry for Bosque del Apache National Wildlife Refuge.

c. Revising paragraph C under San Andres National Wildlife Refuge.

d. Revising paragraph A under Sevilleta National Wildlife Refuge.

These revisions and additions read as follows:

§ 32.50 New Mexico.

* * * * *

Bitter Lake National Wildlife Refuge

A. Migratory Game Bird Hunting. * * *

* * * * *

2. * * *

i. In the designated public hunting area, this is located in the southern portion of the Tract;

ii. To no closer than 100 yards (90 meters) to the public auto tour route;

iii. To Tuesdays, Thursdays, and Saturdays during the period when the State seasons for the Middle Tract area are open simultaneously for hunting all of the species allowed; and

iv. All hunting must cease at 1 p.m. (local time) on each permitted hunt day.

* * * * *

5. We prohibit pit or permanent blinds and require removal of all waterfowl decoys and all temporary blinds/stands daily after each hunt (see § 27.93 of this chapter).

* * * * *

8. We do not require refuge or other special hunt permits other than those required by the State.

* * * * *

B. Upland Game Hunting. * * *

* * * * *

2. * * *

iii. On Tuesdays, Thursdays, and Saturdays during the appropriate State season for that area; and

iv. All hunting must cease at 1 p.m. (local time) on each permitted hunt day.

* * * * *

C. Big Game Hunting. * * *

* * * * *

2. Conditions A8 and A9 apply.

* * * * *

Bosque del Apache National Wildlife Refuge

A. Migratory Game Bird Hunting. We allow hunting of mourning and white-winged dove and light goose on designated areas of the refuge in accordance with State and Federal regulations and any special posting or publications and subject to the following conditions:

1. We allow hunting of light goose on dates to be determined by refuge staff. The permit is available through a lottery drawing (Waterfowl Lottery Application, FWS Form 3-2355) and hunters must pay a fee. Contact the refuge for more information.

2. Legal hunting hours will run from ½ hour before legal sunrise and will not extend past 1:00 p.m. (local time) on each hunt day.

3. Refer to the refuge hunt leaflet for designated hunting areas.

4. You may use only approved nontoxic shot while hunting (see § 32.2(k)).

5. We prohibit pit or permanent blinds and require daily removal of all waterfowl decoys, spent shells, all temporary blinds/stands, and all other personal equipment (see §§ 27.93 and 27.94 of this chapter).

6. We allow unleashed hunting and/or retrieving dogs on the refuge when hunters are legally present in areas where we allow hunters, only if the dogs are under the immediate control of hunters at all time (see § 26.21(b) of this chapter), and only to pursue species legally in season at that time.

7. We prohibit hunters and dogs from entering closed areas for retrieval of game.

8. We prohibit falconry on the refuge.

9. We prohibit canoeing, boating, or floating through the refuge on the Rio Grande.

10. We prohibit hunting any species on the Rio Grande within the refuge.

11. We prohibit overnight camping without a permit.

12. All State and Federal hunting and fishing regulations regarding methods of take, dates, bag limits, and other factors apply to all hunting and fishing on the refuge, in addition to these refuge-specific regulations.

13. Visit the refuge visitor center or Web site, and/or refer to additional on-site brochures, leaflets, or postings for additional information.

B. Upland Game Hunting. We allow hunting of quail and cottontail rabbit on designated areas of the refuge in accordance with State regulations and any special posting or publications subject to the following conditions:

1. We allow only shotguns and archery equipment for hunting of upland game. We prohibit the use of archery equipment on the refuge except when hunting for upland and big game.

2. Conditions A2 through A13 apply.

C. Big Game Hunting. We allow hunting of mule deer, oryx, and bearded Rio Grande turkey on designated areas of the refuge in accordance with State regulations and any special posting or publications subject to the following conditions:

1. Conditions A5 through A13 apply.

2. Refer to the refuge hunt leaflet for designated hunting areas.

3. Hunting on the east side of the Rio Grande is only by foot, horseback, or bicycle. Bicycles must stay on designated roads.

4. We may allow oryx hunting from the east bank of the Rio Grande to the east boundary of the refuge for population management purposes for hunters possessing a valid State permit. We may also establish special hunts of the oryx on dates established by refuge staff. Contact the refuge for more information.

5. Legal hunting hours will run from 1 hour before legal sunrise and will not extend past 1 hour after legal sunset.

6. We allow hunting of bearded Rio Grande turkey for youth hunters only on dates determined by refuge staff. All hunters must fill out (FWS Form 3-2356) (Big/Upland Game Hunt Application) and pay a fee. The permit is available through a lottery drawing. If selected you must carry your refuge special use permit (FWS Form 3-1383-G) at all times during the hunt. All hunters are required to fill out a harvest report (FWS Form 3-2359, Big Game Harvest Report) and return it to the refuge within 72 hours. Contact the refuge for more information.

7. Youth hunters age 17 and under must successfully complete a State-approved hunter education course prior to the refuge hunt. While hunting, each youth must possess and carry a card or certificate of completion.

8. Each youth hunter must remain with an adult companion age 18 or older. Each adult companion must possess and carry an adult companion permit (signed refuge youth turkey hunt brochure) and can supervise no more than one youth hunter. Adult companions may observe and call, but they cannot shoot.

9. We allow the use of temporary ground blinds only for youth turkey hunts, and hunters must remove them from the refuge daily (see § 27.93 of this chapter). It is unlawful to damage, cut, or mark any tree or other refuge structure with paint, flagging tape, ribbon, cat-eyes, or any similar marking device.

D. Sport Fishing. We allow fishing on designated areas of the refuge in accordance with State regulations and any special posting or publications subject to the following conditions:

1. Condition A9 applies.

2. We allow fishing from April 1 through September 30.

3. We allow fishing from ½ hour before legal sunrise until ½ hour after legal sunset.

4. We allow fishing on all canals within the refuge boundaries (Interior Drain, Riverside, Canal, and Low Flow Conveyance Channel), and unit 25AS either from the boardwalk or from shore.

5. We prohibit trotlines, bows and arrows, boats or other floatation devices, seining, dip netting, traps, using bait taken from the refuge, taking of turtle, littering, and all other activities not expressly allowed (see § 27.21 of this chapter).

6. Access to the canals is via the tour loop. We prohibit fishing in closed areas of the refuge, with the exception of the Low Flow Conveyance Channel.

7. We allow frogging for bullfrog on the refuge in areas that are open to fishing.

8. All State and Federal fishing regulations regarding methods of take, dates, creel limits, and other factors apply to all fishing on the refuge, in addition to these refuge-specific regulations.

9. We prohibit fishing for any species on the Rio Grande within the refuge.

* * * * *

San Andres National Wildlife Refuge

* * * * *

C. Big Game Hunting. Hunting of oryx or gemsbok (Oryx gazella) and desert bighorn sheep (Ovis canadensis mexicana) is allowed on designated areas of the refuge in accordance with New Mexico Department of Game and Fish (NMDGF) and White Sands Missile Range (WSMR) regulations and subject to the following conditions:

1. Hunters are required to check in and out of the hunt area.

2. Hunters are required to complete an unexploded ordnance (UXO) training prior to entering hunt area.

3. The hunter may be accompanied by no more than three guests including their guide(s).

4. Only approved WSMR outfitters can be used.

5. All hunters must enter and exit through the Small Missile Range gate on Range Road 7.

6. All members of the hunting party are required to wear solid or camouflage style florescent orange (hunter's orange) clothing while away from the vehicle and in the field hunting. A minimum of 144 square inches must appear on both the chest and back (a typical blaze orange hunting vest).

7. Hunters may be escorted, but not guided, by WSMR, NMDGF, or refuge personnel or their agent(s). Check stations may be used in lieu of hunt escorts.

8. Hunters must follow photo and video policy as described by WSMR regulations.

9. Youth hunters, 16 years of age and younger, must be under the direct supervision of an adult, 18 years of age or older.

10. Persons possessing, transporting, or carrying firearms on National Wildlife Refuges must comply with all provisions of State and local law. Persons may only use (discharge) firearms in accordance with refuge regulations (see § 27.42 of this chapter and specific refuge regulations in this part 32).

11. Hunters and their guests must abide by all rules established by the refuge, WSMR, and NMDGF regulations.

12. Bighorn Sheep: Hunting desert bighorn sheep is allowed on designated areas of the refuge in accordance with NMDGF and WSMR regulations and subject to the following conditions specifically for bighorn sheep:

i. If camping is permitted on WSMR lands, then camping is allowed at Little San Nicholas Camp on the refuge.

ii. Four-wheeled all-terrain vehicle (ATV) use by hunters or members of their hunting party is prohibited on the refuge, although ATVs may be used to retrieve game on WSMR.

iii. Hunters using livestock (i.e., horses or mules) must provide only weed-free feed to their animals while on the refuge.

iv. Hunters or other members of the hunting party are not permitted to hunt small game or other species during desert bighorn ram hunts. Only bighorn sheep may be hunted by individuals with ram tags.

13. Oryx. Hunting oryx is allowed on designated areas of the refuge in accordance with NMDGF and WSMR regulations and subject to the following condition specifically for oryx: Four-wheeled all-terrain vehicle (ATV) use by hunters or members of their hunting party is allowed on the refuge and WSMR only to retrieve game.

* * * * *

Sevilleta National Wildlife Refuge

A. Migratory Game Bird Hunting. We allow hunting of mourning and white-winged doves, geese, ducks, and coots on designated areas of the refuge in accordance with State regulations and any special posting or publications and subject to the following conditions:

1. Legal hunting hours will run from ½ hour before legal sunrise and will not extend past 1:00 p.m. (local time) on each hunt day.

2. The refuge may designate special youth and/or persons with disabilities hunting days during the regular game bird season. This will apply to areas and species that are currently part of the refuge's hunting program. Contact the refuge for more information.

3. Refer to the refuge hunt leaflet for designated hunting areas.

4. You may use only approved nontoxic shot while hunting (see § 32.2(k)) in the field, in quantities of 25 or fewer.

5. We prohibit pit or permanent blinds and require daily removal of all waterfowl decoys, spent shells, all temporary blinds/stands, and all other personal equipment (see §§ 27.93 and 27.94 of this chapter).

6. We allow unleashed hunting and/or retrieving dogs on the refuge when hunters are legally present in areas where we allow hunters, only if the dogs are under the immediate control of hunters at all time (see § 26.21(b) of this chapter), and only to pursue species legally in season at that time.

7. We prohibit hunters and dogs from entering closed areas for retrieval of game.

8. We prohibit falconry on the refuge.

9. All State and Federal hunting regulations regarding methods of take, dates, bag limits, and other factors, apply to all hunting on the refuge, in addition to these refuge-specific regulations.

10. Visit the refuge visitor center or Web site, and/or refer to additional on-site brochures, leaflets, or postings for additional information.

* * * * *

24. Amend § 32.51 New York by adding, in alphabetical order, an entry for Shawangunk Grasslands National Wildlife Refuge to read as follows:

§ 32.51 New York.

* * * * *

Shawangunk Grasslands National Wildlife Refuge

A. Migratory Game Bird Hunting. [RESERVED]

B. Upland Game Hunting. [RESERVED]

C. Big Game Hunting. We allow hunting of white-tailed deer on designated areas of the refuge in accordance with State of New York regulations and subject to the following conditions:

1. You must submit a Big/Upland Game Hunt Application (FWS Form 3-2356) to hunt on the refuge. We require hunters to possess a signed refuge hunt permit (name and address only) at all times while scouting and hunting on the refuge. We charge a fee for all hunters except youth age 16 and younger.

2. We provide hunters with hunt maps and parking permits (name only), which they must clearly display in their vehicle. Hunters who park on the refuge must park in identified hunt parking areas.

3. We prohibit the use of all-terrain vehicles (ATVs) on the refuge.

4. We prohibit baiting on refuge lands (see § 32.2(h)).

5. We require hunters to wear (in a conspicuous manner) a minimum of 400 square inches (2,600 square centimeters) of solid-color, hunter-orange clothing or material on the head, chest, and back.

6. We prohibit hunters using or erecting permanent blinds.

7. We allow pre-hunt scouting beginning two weeks prior to the bow opener and continuing through the end of the deer season.

8. The refuge only allows archery equipment (crossbows permitted) to harvest deer.

D. Sport Fishing. [RESERVED]

* * * * *

25. Amend § 32.53 North Dakota by:

a. Adding paragraph B.4 under Audubon National Wildlife Refuge.

b. Revising paragraphs B and C under Des Lacs National Wildlife Refuge.

c. Revising the introductory text in paragraphs B and D; revising paragraphs A.2, B.2, B.3, B.4, B.5, C.2, C.3, C.4, C.5, D.2, D.3, D.4, D.5, and D.6; and adding paragraphs B.6, B.7, B.8, B.9, C.6, C.7, C.8, C.9, D.7, and D.8 under J. Clark Salyer National Wildlife Refuge.

d. Revising the introductory text in paragraph B and revising paragraphs C.2 and D under Tewaukon National Wildlife Refuge.

These revisions and additions read as follows:

§ 32.53 North Dakota.

* * * * *

Audubon National Wildlife Refuge

* * * * *

B. Upland Game Hunting. * * *

* * * * *

4. You may possess only approved nontoxic shot while in the field (see § 32.2(k)).

* * * * *

Des Lacs National Wildlife Refuge

* * * * *

B. Upland Game Hunting. Hunters may hunt sharp-tailed grouse, Hungarian partridge, turkey, ring-necked pheasant, cottontail rabbit, jackrabbit, snowshoe hare, and fox on designated areas of the refuge in accordance with State regulations and subject to the following conditions:

1. We open the refuge daily from 5 a.m. to 10 p.m.

2. You may possess only approved nontoxic shot while in the field, (see § 32.2(k)).

3. Upland game bird and rabbit season opens on the day following the close of the regular firearm deer season through the end of the State season.

4. Hunting dogs used for retrieval of upland game is permitted. Dogs must be under direct control.

5. Turkey hunting is subject to all State regulations, license requirements, units, and dates.

6. Fox hunting is permitted on the day following the regular firearm deer season and closes on March 31.

7. We prohibit hunting the area around refuge headquarters, buildings, shops, and residences. We post these areas with “Closed to Hunting” signs.

8. We prohibit the use of snowmobiles, all-terrain vehicles (ATVs), off-highway vehicles (OHVs), utility-terrain vehicles (UTVs), bicycles, or similar vehicles on the refuge.

9. We prohibit the use of horses, mules, or similar livestock on the refuge during all hunting seasons.

10. We prohibit accessing refuge lands from refuge waters.

C. Big Game Hunting. We allow deer hunting on designated areas of the refuge in accordance with State regulations and subject to the following conditions:

1. We open the refuge daily from 5 a.m. to 10 p.m.

2. We only allow the use of portable tree stands and ground blinds. We prohibit leaving stands and blinds overnight (see § 27.93 of this chapter) on the refuge. Tree stands cannot injure trees. Screw-in steps, bolts, nails, wire, or other objects that penetrate the bark of the tree cannot be used (see § 32.2(i)).

3. We prohibit entry to the refuge before 12 p.m. (noon) on the first day of the respective bow, gun, or muzzleloader deer hunting seasons.

4. We prohibit the use of flagging, trail markers, paint, reflective tacks, or other types of markers (see § 27.93 of this chapter).

5. We prohibit the use of trail cameras and other electronic equipment.

6. Conditions B7 through B10 apply.

* * * * *

J. Clark Salyer National Wildlife Refuge

A. Migratory Game Bird Hunting. * * *

* * * * *

2. We allow the use of dogs for hunting and retrieving game birds. Dogs must be under direct control of the hunter (see § 26.21(b) of this chapter).

* * * * *

B. Upland Game Hunting. We allow hunting of ruffed and sharp-tailed grouse, Hungarian partridge, turkey, ring-necked pheasant, and fox on designated areas of the refuge in accordance with State regulations and subject to the following conditions:

* * * * *

2. We allow hunting for sharp-tailed grouse, Hungarian partridge, and ring-necked pheasant on nine designated Public Hunting Areas as delineated on the refuge hunting brochure map available at the refuge headquarters or posted on refuge information boards and/or kiosks.

3. We allow hunting for sharp-tailed grouse, ruffed grouse, Hungarian partridge and turkey south of the Upham-Willow City Road in accordance with State seasons.

4. We open to hunting-for sharp-tailed grouse, Hungarian partridge, and ring-necked pheasant north of the Willow-Upham road on the day following the close of the regular firearm deer season.

5. We prohibit hunting the area around the refuge headquarters, buildings, shops, and residences. We post these areas with “Closed to Hunting” signs.

6. We open the refuge to fox hunting on the day following the close of the regular firearm deer season. Fox hunting on the refuge closes March 31.

7. Hunters may possess only approved nontoxic shot for all upland game hunting, including turkey, as identified in § 20.21(j) of this chapter.

8. We prohibit the use of snowmobiles, all-terrain vehicles (ATVs), off highway vehicles (OHVs), utility terrain vehicles (UTVs), bicycles, or similar vehicles on the refuge.

9. We prohibit the use of horses, mules, or similar livestock on the refuge during all hunting seasons.

C. Big Game Hunting. * * *

* * * * *

2. We prohibit hunting the area around the refuge headquarters, buildings, shops, and residences. We post these areas with “Closed to Hunting” signs.

3. We open nine designated Public Hunting Areas (as delineated on the refuge hunting brochure map available at the refuge headquarters or posted on refuge information boards and/or kiosks) on the refuge for deer hunting during the regular firearms issued from the State.

4. You must possess and carry a refuge permit to hunt antlered deer on the refuge outside the nine Public Hunting Areas during the regular firearms season.

5. We only allow the use of portable tree stands and ground blinds. We prohibit leaving stands and blinds overnight (see § 27.93 of this chapter) on the refuge.

6. We prohibit the use of flagging, trail markers, paint, reflective tacks, or other types of markers (see § 27.93 of this chapter).

7. We prohibit the use of trail cameras and other electronic surveillance equipment.

8. We prohibit entry to the refuge before 12 p.m. (noon) on the first day of the respective bow, gun, or muzzleloader deer hunting seasons. Refuge roads open to the public may be accessed before 12 p.m. (noon).

9. Conditions B8 and B9 apply.

D. Sport Fishing. We allow sport fishing on the refuge in accordance with State regulations and subject to the following conditions:

* * * * *

2. We allow boat and bank fishing only on specifically designated portions of the refuge as delineated on maps, leaflets and/or signs, available at the refuge headquarters or posted on refuge information boards.

3. We only allow non-motorized boats or boats with electric motors.

4. Boat fishing is allowed from May 1 through September 30.

5. We prohibit entry to or fishing from any water control structure.

6. We open all refuge waters to ice fishing. Ice fishing access is limited to foot traffic only.

7. We allow the use of portable fish houses for ice fishing. Portable fish houses may not be left out overnight.

8. Conditions B8 and B9 apply.

* * * * *

Tewaukon National Wildlife Refuge

* * * * *

B. Upland Game Hunting. We allow ring-necked pheasant hunting on designated areas of the refuge (see refuge brochure/maps for designated area) in accordance with State regulations and subject to the following conditions:

* * * * *

C. Big Game Hunting. * * *

* * * * *

2. We allow deer gun hunting on designated areas of the refuge (see refuge brochure/maps for designated areas) in accordance with State regulations.

* * * * *

D. Sport Fishing. We allow sport fishing on designated waters (Tewaukon and Sprague Lakes only) in accordance with State regulations and subject to the following conditions:

1. We allow boats from May 1 through September 30.

2. We allow ice fishing on designated portions of Tewaukon and Sprague Lakes (see refuge brochure/maps for designated areas) in accordance with State regulations.

* * * * *

26. Amend § 32.54 Ohio by revising paragraph C.2; removing paragraph C.3; and redesignating paragraphs C.4, C.5, C.6, C.7, C.8, and C.9 as paragraphs C.3, C.4, C.5, C.6, C.7, and C.8, respectively, under Ottawa National Wildlife Refuge to read as follows:

§ 32.54 Ohio.

* * * * *

Ottawa National Wildlife Refuge

* * * * *

C. Big Game Hunting. * * *

* * * * *

2. We require that hunters check out at the refuge check station with a State-issued Big Game Harvest Report no later than 1 hour after the conclusion of their controlled hunt.

* * * * *

27. Amend § 32.56 Oregon by:

a. Revising paragraph A under Bandon Marsh National Wildlife Refuge.

b. Adding, in alphabetical order, an entry for Baskett Slough National Wildlife Refuge.

c. Revising the introductory text in paragraph A, revising paragraphs A.2 and A.3, and adding paragraph A.4 under Julia Butler Hansen Refuge for the Columbian White-Tailed Deer.

d. Adding paragraphs A.4 and A.5 under Lewis and Clark National Wildlife Refuge.

e. Redesignating paragraph A.2 as A.4; revising paragraphs A.1, B, C, D.1, and D.2; and adding paragraphs A.2, A.3, A.5, A.6, A.7, A.8, D.3, D.4, and D.5 under Malheur National Wildlife Refuge.

f. Adding, in alphabetical order, an entry for Nestucca Bay National Wildlife Refuge.

g. Adding, in alphabetical order, an entry for Siletz Bay National Wildlife Refuge.

These revisions and additions read as follows:

§ 32.56 Oregon.

* * * * *

Bandon Marsh National Wildlife Refuge

A. Migratory Game Bird Hunting. We allow hunting of goose, duck, coot, and snipe on that portion of the refuge west of U.S. Highway 101 and outside the Bandon city limits 7 days per week, and hunting of goose, duck, and coot on the Ni-les'tun Unit of the refuge 3 days per week, in accordance with State regulations and subject to the following conditions:

1. The established days for waterfowl hunting on the Ni-les'tun Unit will be Wednesday, Saturday, and Sunday.

2. Only portable blinds or blinds constructed of on-site dead vegetation or driftwood may be used (see § 27.51 of this chapter).

3. All blinds, decoys, shotshell hulls, and other personal equipment and refuse must be removed from the refuge at the end of each day (see §§ 27.93 and 27.94 of this chapter).

4. Only federally approved nontoxic shot may be used or be in hunters' possession while hunting on the refuge (see § 32.2(k)).

5. Hunters accessing the Ni-les'tun Unit via boat must secure or anchor boats and use established boat launch areas. Hunters may park boats within the marsh while they hunt, but boats landing on the bank of the Coquille River within the Ni-les'tun Unit will be required to park within a designated location.

6. Access to the refuge will be prohibited from 1 hour after sunset to 1 hour before sunrise.

7. Hunters may use dogs as an aid to retrieving waterfowl during the hunting season; however, dogs must remain under control of the handler at all times. Dogs must be in a vehicle or on a leash until they are in the marsh as a part of the hunt.

8. Hunters may enter closed areas of the refuge only to retrieve downed birds.

* * * * *

Baskett Slough National Wildlife Refuge

A. Migratory Game Bird Hunting. We allow hunting of duck and goose on designated areas of the refuge in accordance with State regulations and subject to the following conditions:

1. Only hunters 15 years of age and younger are allowed to participate in the Youth Waterfowl Hunt. Youths must be accompanied by an adult 21 years of age or older.

2. Blinds, decoys, and other personal property must be removed at the end of each day's hunt (see § 27.93 of this chapter).

3. Vehicles are restricted to designated public use roads and designated parking areas.

4. We prohibit dogs on the refuge, except for hunting dogs engaged in authorized hunting activities, and under the immediate control of a licensed hunter (see § 26.21(b) of this chapter).

5. You may possess only approved nontoxic shells for hunting during the early September Goose Hunt and the Youth Duck Hunt.

6. Open fires are not allowed.

7. Waterfowl and goose permit (name only) hunters must check back to the refuge check station prior to leaving the refuge and submit a Migratory Bird Hunt Report (FWS Form 3-2361).

8. Goose hunters are required to space themselves no less than 200 yards apart from each other during the early September Goose Hunt.

9. No overnight camping or after-hours parking is permitted on the refuge.

10. No hunting is permitted from refuge structures, observation blinds, boardwalks, or similar structures.

11. Persons may only use (discharge) firearms in accordance with refuge regulations (see § 27.42 of this chapter and refuge-specific regulations in this part 32).

B. Upland Game Hunting. [RESERVED]

C. Big Game Hunting. [RESERVED]

D. Sport Fishing. [RESERVED]

* * * * *

Julia Butler Hansen Refuge for the Columbian White-Tailed Deer

A. Migratory Game Bird Hunting. We allow hunting of goose, duck, coot, and common snipe on the refuge-owned shorelines of Crims and Wallace Islands in accordance with State regulations and subject to the following conditions:

* * * * *

2. We prohibit permanent blinds. You must remove all personal property, including decoys and boats, by 1 hour after legal sunset (see §§ 27.93 and 27.94 of this chapter).

3. We open the refuge for day-use access from 1½ hours before legal sunrise until 1½ hours after legal sunset.

4. We prohibit dogs on the refuge, except for hunting dogs engaged in authorized hunting activities, and under the immediate control of a licensed hunter (see § 26.21(b) of this chapter).

* * * * *

Lewis and Clark National Wildlife Refuge

A. Migratory Game Bird Hunting. * * *

* * * * *

4. We open the refuge for hunting access from 1½ hours before legal sunrise until 1½ hours after legal sunset.

5. We prohibit dogs on the refuge, except for hunting dogs engaged in authorized hunting activities, and under the immediate control of a licensed hunter (see § 26.21(b) of this chapter).

* * * * *

Malheur National Wildlife Refuge

A. Migratory Game Bird Hunting. * * *

1. We allow nonmotorized boats or boats equipped with only electric motors on the North and South Malheur Lake Hunt Units. All boats are prohibited on the Buena Vista Hunt Unit.

2. We allow only portable and temporary hunting blinds. We prohibit permanent structures.

3. You must remove boats, decoys, blinds, materials and all personal property at the end of each day (see § 27.93 of this chapter).

* * * * *

5. We may close any refuge access easement road, refuge road, or hunting access point for public safety, or when travel may be detrimental to the area.

6. The North Malheur Lake Hunt Unit is open during all established State of Oregon migratory bird hunting seasons.

7. The South Malheur Lake and Buena Vista Hunt Units open for migratory bird hunting on the fourth Saturday of October and close at the end of the State waterfowl season.

8. The South Malheur Lake Hunt Unit may be accessed from the Boat Launch Road, or from the North Malheur Lake Hunt Unit, but no earlier than the fourth Saturday of October.

B. Upland Game Hunting. We allow hunting of pheasant, quail, partridge, chukar, and rabbit on designated areas of the refuge in accordance with State regulations and subject to the following conditions:

1. You may possess only approved nontoxic shot while in the field (see § 32.2(k))

2. We allow hunting of upland game species on designated areas of the Blitzen Valley east of Highway 205 from the fourth Saturday in October through the end of the State pheasant season.

3. We allow hunting of upland game species on the North Malheur Lake Hunt Unit concurrent with the State pheasant season.

4. We allow hunting of all upland game species on designated areas of the refuge west of Highway 205 and south of Foster Flat Road, and on designated areas of Krumbo Creek east of the Krumbo Reservoir in accordance with State regulations.

5. We may close any refuge access easement road, refuge road, or hunting access point for public safety, or when travel may be detrimental to the area.

C. Big Game Hunting. We allow hunting of deer and pronghorn on designated areas of the refuge west of Highway 205 and south of Foster Flat Road, and on designated areas of Krumbo Creek east of the Krumbo Reservoir, in accordance with State regulations.

D. Sport Fishing. * * *

1. We prohibit ice fishing on and all public access to any ice formations.

2. We allow fishing year-round on Krumbo Reservoir and in the Blitzen River, East Canal, and Mud Creek upstream from and including Bridge Creek.

3. Fishing is allowed on the north bank of the Blitzen River from Sodhouse Lane downstream to the bridge on the Boat Landing Road between August 1 and September 15.

4. We prohibit boats on public fishing areas, except that nonmotorized boats and boats equipped with only electric motors may be used on Krumbo Reservoir.

5. We may close any refuge access easement road, refuge road, or fishing access point for public safety, or when travel may be detrimental to the area.

* * * * *

Nestucca Bay National Wildlife Refuge

A. Migratory Game Bird Hunting. We allow hunting of ducks and coot on refuge lands at Brooten Marsh and the mouth of the Little Nestucca River 7 days per week in accordance with State regulations and subject to the following conditions:

1. Only federally approved nontoxic shot may be used or be in hunters' possession while hunting on the refuge (see § 32.2(k)).

2. Only portable blinds or blinds constructed of on-site dead vegetation or driftwood may be used (see § 27.51 of this chapter).

3. All blinds, decoys, shotshell hulls, and other personal equipment and refuse must be removed from the refuge at the end of each day (see §§ 27.93 and 27.94 of this chapter).

4. Access to the refuge will be prohibited from 1 hour after sunset to 1 hour before sunrise.

5. Hunters may use dogs as an aid to retrieving waterfowl during the hunting season; however, dogs must remain under control of the handler at all times (see § 26.21(b) of this chapter). Dogs must be in a vehicle or on a leash until they are in the marsh as a part of the hunt.

6. Hunters may enter closed areas of the refuge only to retrieve downed birds.

B. Upland Game Hunting. [RESERVED]

C. Big Game Hunting. [RESERVED]

D. Sport Fishing. [RESERVED]

* * * * *

Siletz Bay National Wildlife Refuge

A. Migratory Game Bird Hunting. We allow hunting of goose, duck, and coot on refuge lands west of U.S. Highway 101 7 days per week and on the Millport Slough South Unit of the refuge 3 days per week, in accordance with State regulations and subject to the following conditions:

1. The established days for waterfowl hunting on the Millport Slough South Unit will be Wednesday, Saturday, and Sunday.

2. Only federally approved nontoxic shot may be used or be in hunters' possession while hunting on the refuge (see § 32.2(k)).

3. Only portable blinds or blinds constructed of on-site dead vegetation or driftwood may be used (see § 27.51 of this chapter).

4. All blinds, decoys, shotshell hulls, and other personal equipment and refuse must be removed from the refuge at the end of each day (see §§ 27.93 and 27.94 of this chapter).

5. Access to the refuge will be prohibited from 1 hour after sunset to 1 hour before sunrise.

6. The use or possession of alcoholic beverages while hunting is prohibited.

7. Hunters may use dogs as an aid to retrieving waterfowl during the hunting season; however, dogs must remain under control of the handler at all time (see § 26.21(b) of this chapter). Dogs must be in a vehicle or on a leash until they are in the marsh as a part of the hunt.

B. Upland Game Hunting. [RESERVED]

C. Big Game Hunting. [RESERVED]

D. Sport Fishing. [RESERVED]

* * * * *

28. Amend § 32.57 Pennsylvania by adding, in alphabetical order, an entry for Cherry Valley National Wildlife Refuge to read as follows:

§ 32.57 Pennsylvania.

* * * * *

Cherry Valley National Wildlife Refuge

A. Migratory Game Bird Hunting. We allow hunting of migratory birds, including waterfowl (i.e., ducks, mergansers, coots, and geese), doves, woodcock, snipe, rails, moorhens, and gallinules, on designated areas of the refuge in accordance with State of Pennsylvania regulations and subject to the following conditions:

1. You must submit a Migratory Bird Hunt Application (FWS Form 3-2357) to hunt on the refuge. We require hunters to possess a signed refuge hunt permit (name and address only) at all times while scouting and hunting on the refuge. We charge a fee for all hunters except youth age 16 and younger.

2. We issue one companion permit (no personal information) at no charge to each hunter. We allow companions to observe and/or call, but not to shoot a firearm or bow. Companion and hunters must set up in the same location. We provide hunters with hunt maps and parking permits (name only), which they must clearly display in their vehicle. Hunters who park on the refuge must park in identified hunt parking areas.

3. We prohibit the use of all-terrain vehicles (ATVs) on the refuge.

4. We require hunters to wear (in a conspicuous manner) solid-color, hunter-orange clothing or material, consistent with Pennsylvania Game Commission regulations.

5. We prohibit hunters using or erecting permanent or pit blinds.

6. We require hunters to remove all hunting blind material, boats, and decoys from the refuge at the end of each hunting season (see § 27.93 of this chapter).

7. We allow pre-hunt scouting concurrent with big game scouting continuing through the end of the migratory bird season; however, we prohibit the use of dogs during scouting.

8. Dogs may only be used for waterfowl hunting. We limit the number of dogs per waterfowl hunting party to no more than two dogs.

9. We allow hunters to enter the refuge 2 hours before shooting time (as prescribed by Pennsylvania Game Commission regulations), and they must leave no later than 2 hours after the end of shooting time.

B. Upland Game Hunting. We allow hunting of squirrels, grouse, rabbit, pheasant, quail, woodchuck, crow, fox, raccoon, opossum, skunk, weasel, coyote, and bobcat on designated areas of the refuge in accordance with State of Pennsylvania regulations and subject to the following conditions:

1. We require hunters to submit a Big/Upland Game Hunt Application/Permit (FWS Form 3-2356) to hunt on the refuge. We require hunters to possess a signed refuge hunt permit (name and address only) at all times while scouting and hunting on the refuge. We charge a fee for all hunters except youth age 16 and younger.

2. Conditions A3, A4, A5, and A9 apply.

3. We prohibit scouting.

4. No dogs allowed.

5. We prohibit baiting on refuge lands (see § 32.2(h)).

6. We only allow hunting from 1 half hour before legal sunrise to legal sunset. We prohibit night hunting.

C. Big Game Hunting. We allow hunting of white-tailed deer, bear, and wild turkey on designated areas of the refuge in accordance with State of Pennsylvania regulations and subject to the following conditions:

1. Conditions A3, A4, A5, A9, B1, and B5 apply.

2. We allow pre-hunt scouting beginning two weeks prior to the bow opener and continuing through the end of the deer season.

3. We require hunters to remove all portable hunting blind materials from the refuge at the end of each hunting season (see § 27.93 of this chapter).

D. Sport Fishing. [RESERVED]

* * * * *

29. Amend § 32.61 South Dakota by:

a. Removing paragraph A.1; redesignating paragraphs A.2 and A.3 as paragraphs A.1 and A.2, respectively; revising paragraphs B.1 and C.5; and adding paragraphs B.3 and C.10 under Sand Lake National Wildlife Refuge.

b. Revising paragraphs A, C.4, and D under Sand Lake Wetland Management District.

These revisions and additions read as follows:

§ 32.61 South Dakota.

* * * * *

Sand Lake National Wildlife Refuge

* * * * *

B. Upland Game Hunting. * * *

1. The game bird season begins the Monday following closure of the refuge firearms deer season and continues through the first Sunday in January.

* * * * *

3. Hunters are not allowed to enter the refuge each day until 10:00 a.m.

C. Big Game Hunting. * * *

* * * * *

5. Hunters may place their tree stands, elevated platforms, and portable ground blinds on the refuge only during their designated licensed season. These stands must be removed by the end of their designated licensed season (see § 27.93 of this chapter).

* * * * *

10. Trail monitor cameras are not allowed on the refuge.

* * * * *

Sand Lake Wetland Management District

A. Migratory Game Bird Hunting. We allow migratory game bird hunting on Waterfowl Production Areas throughout the District in accordance with State regulations and subject to the following conditions:

1. You must remove boats, decoys, portable blinds, other personal property, and any materials brought onto the area for blind construction by the end of each day (see §§ 27.93 and 27.94 of this chapter).

2. We prohibit bringing any type of live or dead vegetation onto the refuge for any purpose at any time.

3. We allow the use of motorized boats.

* * * * *

C. Big Game Hunting. * * *

* * * * *

4. You must remove portable ground blinds, trail cameras, and other personal property by the end of each day (see §§ 27.93 and 27.94 of this chapter).

D. Sport Fishing. We allow sport fishing on Waterfowl Production Areas throughout the District in accordance with State regulations and subject to the following conditions:

1. You must remove boats, motor vehicles, fishing equipment, and other personal property (excluding ice houses) by the end of each day (see §§ 27.93 and 27.94 of this chapter).

2. We allow the use of motorized boats.

* * * * *

30. Amend § 32.63 Texas by:

a. Revising paragraphs A, C.1, C.2, and C.3 and removing paragraphs C.4, C.5, C.6, C.7, C.8, C.9, C.10, C.11, C.12, C.13, C.14, C.15, C.16, C.17, C.18, C.19, and C.20 under Aransas National Wildlife Refuge.

b. Revising paragraphs A.2, A.3, A.4, A.5, A.6, A.7, A.9, A.11, B, and C under Balcones Canyonlands National Wildlife Refuge.

These additions and revisions read as follows:

§ 32.63 Texas.

* * * * *

Aransas National Wildlife Refuge

A. Migratory Game Bird Hunting. We allow hunting of ducks, coots, and mergansers on designated areas of the refuge in accordance with State regulations and subject to the following conditions:

1. Each adult hunter 17 years of age or older must possess an Annual Public Hunting Permit (APH) administered by the State.

2. Hunters may enter the refuge hunt units no earlier than 4 a.m. Hunting starts at the designated legal shooting time and ends at 12 p.m. (noon). Hunters must leave refuge hunt units by 12:30 p.m.

3. Youth under 17 years of age are required to be under the immediate supervision of a duly permitted, authorized supervising adult, age 18 or older.

4. Shotguns with nontoxic shot are the legal means that may be used or possessed during these hunts (see § 32.2(k)).

5. We prohibit pits and permanent blinds. We allow portable blinds or temporary natural vegetation blinds. You must remove all blinds from the refuge daily (see § 27.93 of this chapter).

6. We only allow vehicular travel on designated roads and in parking areas.

7. All hunters are transported to and from their hunting location by Texas Parks and Wildlife Department (TPWD) personnel.

8. Hunter check-in begins at 5:00 a.m. and ends at 5:30 a.m. All hunters are required to check in and out at the hunter check station located on the north end of the Island.

9. Hunters will select hunt sites on a first-come, first-served basis.

10. Waterfowl hunts are morning only, begin at legal shooting time, and end at 12:00 p.m. (noon).

11. Dogs accompanying hunters must be under the immediate control of handlers at all times (see § 26.21(b) of this chapter).

12. Hunters must remove all decoys, boats, spent shells, marsh chairs, and other equipment from the refuge daily (see §§ 27.93 and 27.94 of this chapter). We prohibit the use of plastic flagging, reflectors, or reflective tape.

13. Hunting of geese is prohibited.

14. The entire refuge or any portion thereof may immediately close to hunting in the event of whooping cranes present within the hunt area.

* * * * *

C. Big Game Hunting. * * *

1. On the Blackjack Unit, we allow hunting subject to the following conditions:

i. We may immediately close the entire refuge or any portion thereof to hunting in the event of the appearance of whooping crane in the hunt area or in order to conduct habitat management practices as required during the available windows (e.g., prescribed burns, roller chopping, fire breaks).

ii. We prohibit the use of dogs to trail game.

iii. We prohibit target practice or any nonhunting discharge of firearms.

iv. We prohibit hunting with the aid of bait, salt, or any ingestible attractant (see § 32.2(h)). We allow sprays and other non-ingestible attractants.

v. Firearm hunters must wear a total of 400 square inches (2,600 square centimeters) hunter orange including 144 square inches (936 square centimeters) visible in front and 144 square inches visible in rear. Some hunter orange must appear on head gear.

vi. All hunters must fill out (FWS Form3-2359) Big Game Harvest Report upon leaving the hunt area.

vii. For the archery and rifle season, hunters must obtain a refuge permit (name only required) and pay a fee. The hunter must tape the smaller vehicle tag on the driver's side windshield. The hunter must sign the larger permit and possess it at all times while on the refuge.

viii. We define youth hunters as ages 9 to16. A Texas-licensed, adult hunter, age 17 or older who has successfully completed a Hunter Education Training Course, must accompany youth hunters. We exempt those persons born prior to September 2, 1971, from the Hunter Education Training course requirement. Each adult hunter may supervise two youth hunters.

ix. We will annually designate bag limits in the refuge hunt brochure.

x. We allow archery hunting within the deer season for the county on specified days listed in the refuge hunt brochure.

xi. We allow firearm hunting within the deer season for the county on specified days listed in the refuge hunt brochure.

xii. Hunters must clean all harvested game in the field.

xiii. We prohibit hunting on or across any part of the refuge road system, or hunting from a vehicle on any refuge road or road right-of-way. Hunters must remain at a minimum of 100 yards (90 meters) off any designated refuge road or structure.

xiv. We prohibit hunters using handguns during archery and rifle hunts. Hunters may use bows and arrows only in accordance with State law. We prohibit use of crossbows for hunting unless we issue a special use permit (FWS Form 3-1383-G) due to “upper 2 limb” disability. We allow the use of archery equipment and centerfire rifles for hunting in accordance with State law.

xv. We allow use of portable hunting stands, stalking of game, and still hunting. There is a limit of two portable stands per permitted hunter. A hunter may set up the portable stands during the scouting week, but must remove them when the hunter's permit expires (see § 27.93 of this chapter). We prohibit hunters from driving nails, spikes, or other objects into trees or hunting from stands secured with objects driven into trees (see § 32.2(i)). We prohibit the building of pits and permanent blinds.

xvi. We prohibit blocking of gates and roadways (see § 27.31(h) of this chapter). We prohibit vehicles operating off-road for any reason. Hunters must park vehicles in such a manner as to not obstruct normal vehicle traffic.

xvii. We allow the use of only biodegradable flagging tape to mark trails and hunt stand location during the archery and rifle hunts on the refuge. We color-code the flagging tape used each weekend during the rifle hunts. Hunters must use the designated flagging tape color specified for particular hunt dates. We provide this information on the refuge hunt permit and in refuge regulations sent to permittees. Hunters must remove flagging (see § 27.93 of this chapter) at the end of the hunt. The hunter must write his/her last name in black permanent marker on the first piece of flagging tape nearest the adjacent designated roadway.

xiii. We prohibit camping.

2. On the Matagorda Island Unit, we allow hunting subject to the following conditions:

i. Big Game Hunting Blackjack Unit conditions: C.1.i through C.1.vi apply.

ii. Special permits are issued by lottery drawing through the TPWD Public Hunting Program for big game hunts.

iii. TPWD staff will transport all hunters to and from the designated hunting stand.

iv. All hunters are required to stay in their designated stand unless they are retrieving their game. Stalking of game is prohibited.

v. For hunts administered by TPWD, youth hunters are not required to complete a Hunter Education Training Course. However, supervising adults born on or after September 2, 1971, must have passed a Hunter Education Training Course or possess a State-issued deferral.

vi. Each adult hunter may supervise up to two youth hunters.

vii. Hunters can clean all harvested game in the field or at the designated cleaning area at the headquarters.

viii. All deer harvested during the hunt will be tagged with a TPWD-issued Special Drawn Legal Deer Tag.

ix. Hunters are allowed to camp in the designated camping area.

3. On the Tatton Unit, we allow hunting subject to the following conditions:

i. Big Game Hunting Blackjack Unit conditions: C.1.i through C.1.v apply.

ii. We define youth hunters as ages 9 to 16. All hunters born after September 2, 1971 must have completed a State-certified hunter education course for refuge administered hunts. A Texas-licensed, adult hunter, age 17 or older who has successfully completed a Hunter Education Training Course, must accompany youth hunters. We exempt those persons born prior to September 2, 1971, from the Hunter Education Training course requirement.

iii. Hunters are transported to and from their hunting location via government vehicles.

* * * * *

Balcones Canyonlands National Wildlife Refuge

A. Migratory Game Bird Hunting. * * *

* * * * *

2. Hunting allowed in designated area(s) from noon to sunset.

3. Refuge will set the bag limits.

4. You may possess only approved nontoxic shot for hunting while in the field (see § 32.2(k)).

5. Refuge permits (name only) are required with payment of a hunt fee.

6. Dogs are allowed to retrieve game birds during the hunt, but the dogs must be under control of the handler at all times and not allowed to roam free (see § 26.21(b) of this chapter).

7. Hunters must be at least 12 years of age. An adult 21 years of age or older must accompany hunters between the ages of 12 and 17 (inclusive) as per State regulations.

* * * * *

9. The entire refuge or any portion thereof may be closed to hunting for the protection of resources or public safety as determined by the Refuge Manager.

* * * * *

11. Hunter may bring up to two guests. Guests may not use a hunting firearm. Guests must be with the hunter at all times.

B. Upland Game Hunting. We allow hunting of wild turkey at designated times on designated areas of the refuge in accordance with State regulations and subject to the following conditions:

1. Hunting is permitted consistent with the State season.

2. Hunters are required to check in and out daily at designated check station(s).

3. Weapons will be consistent with State and Federal regulations.

4. The entire refuge or any portion thereof may be closed to hunting for the protection of resources or public safety as determined by the Refuge Manager.

5. Hunters must be at least 12 years of age. An adult 21 years of age or older must accompany hunters between the ages of 12 and 17 (inclusive) as per State regulations. This adult may supervise no more than two hunters.

6. The refuge will set the bag limits.

7. Hunters must visibly wear 400 square inches (2,600 square centimeters) of hunter orange on the outermost layer of the head, chest, and back, which must include a hunter-orange hat or cap.

8. Refuge permits and the payment of a hunt fee are required.

9. Dogs are not allowed for hunting.

10. Vehicles may only be operated on designated roads and parking areas.

11. Off road use of all-terrain vehicles (ATVs) is prohibited, except to retrieve bagged game.

12. Standby hunting permits are issued only if openings are available on the day of each hunt on a first-come, first-served basis. Contact Refuge Manager for details.

13. The use or possession of bait is prohibited during scouting or hunting (see § 32.2(h)). Bait is considered anything that may be eaten or ingested by wildlife. Scent attractants are allowed.

14. A hunter may bring one guest. Guest may not use a hunting firearm or other hunting weapon (archery). Guest may assist hunter in game retrieval or field dressing activities. Guest must be with the hunter at all times.

C. Big Game Hunting. We allow hunting of white-tailed deer and feral hog at designated times on designated areas of the refuge in accordance with State regulations and subject to the following conditions:

1. Conditions B1 through B14 apply.

* * * * *

31. Amend § 32.64 Utah by revising paragraphs C.4, C.5, C.6, and C.7 under Ouray National Wildlife Refuge to read as follows.

§ 32.64 Utah.

* * * * *

Ouray National Wildlife Refuge

* * * * *

C. Big Game Hunting. * * *

* * * * *

4. We allow any-legal-weapon elk hunting for youth, disabled, and depredation pool hunters during State seasons subject to refuge regulations.

5. We allow archery elk hunting during the general and the Uintah Basin extended archery elk hunts during State seasons subject to refuge regulations.

6. We are closed for the general any-legal-weapon (rifle) and muzzleloader bull elk hunts.

7. We allow any-legal-weapon elk hunting during limited late season antlerless elk hunts starting on December 1 during State seasons subject to refuge regulations.

* * * * *

32. Amend § 32.65 Vermont by adding, in alphabetical order, an entry for Silvio O. Conte National Fish and Wildlife Refuge to read as follows:

§ 32.65 Vermont.

* * * * *

Silvio O. Conte National Fish and Wildlife Refuge

A. Migratory Game Bird Hunting. We allow hunting of ducks, geese, crows, and American woodcock at the Nulhegan Basin Division and Putney Mountain Unit in accordance with State of Vermont regulations, seasons, and bag limits subject to the following conditions:

1. Shooting across, over, or within 10 feet of the traveled portion of any gravel road is prohibited in the interest of public safety (see §§ 25.71 of this chapter).

2. You may only use portable blinds.

3. We allow the use of retrieving, flushing, pointing, and pursuit dogs; however dogs must be under control as is reasonable and customary for that activity, such as voice command or remote telemetry (see § 26.21(b) of this chapter).

4. We prohibit the use of all-terrain and off-highway vehicles (ATVs and OHVs).

5. You must remove all blinds, decoys, shell casings, and other personal equipment and refuse from the refuge at the end of each hunt day (see §§ 27.93 and 27.94 of this chapter).

B. Upland Game Hunting. We allow hunting of coyote, fox, raccoon, bobcat, woodchuck, red squirrel, eastern gray squirrel, porcupine, skunk, snowshoe hare, eastern cottontail, and ruffed grouse at the Nulhegan Basin Division and Putney Mountain Unit in accordance with State of Vermont regulations, seasons, and bag limits subject to the following conditions:

1. Conditions A1 through A4 apply.

2. To monitor and mitigate potential disturbances to wildlife and neighboring landowners, raccoon hunters hunting at night with dogs will require a special use permit (FWS Form 1383-G) issued by the Refuge Manager.

C. Big Game Hunting. We allow hunting of white-tailed deer, moose, black bear, and wild turkey at the Nulhegan Basin Division and Putney Mountain Unit in accordance with State of Vermont regulations, seasons, and bag limits subject to the following conditions:

1. Conditions A1 through A4 apply.

2. We allow only temporary tree stands and you must remove them (see § 27.93 of this chapter) by the end of the final deer season. Your name and address must be clearly visible on the tree stand. We prohibit nails, screws, or screw-in climbing pegs to build or access a stand (see § 32.2(i)).

3. Moose may be retrieved at the Nulhegan Basin Division by a commercial moose hauler, subject to a special use permit (FWS Form 1383-C) issued by the Refuge Manager.

D. Sport Fishing. [RESERVED]

* * * * *

33. Amend § 32.66 Virginia by revising paragraphs C.1, C.5, C.12, and C.13 under Back Bay National Wildlife Refuge to read as follows:

§ 32.66 Virginia.

* * * * *

Back Bay National Wildlife Refuge

* * * * *

C. Big Game Hunting. * * *

1. Hunt regulations, hunting application procedures, seasons, methods of hunting, maps depicting areas open to hunting, and the terms and conditions under which we issue hunting permits are available on the refuge's Web site.

* * * * *

5. All selected and standby applicants must enter the refuge between 4 a.m. and 4:30 a.m. on each hunt day. We may issue standby hunters permits (name only) to fill vacant slots by lottery. Hunting hours will comply with State laws.

* * * * *

12. We allow scouting on designated days prior to the start of each refuge hunt period. Hunters may enter the hunt zones on foot, on bicycle, or through transportation provided by the refuge only. Scouts must wear 400 square inches (2,600 square centimeters) of visible blaze orange.

13. Hunters may go to Hunt Zone 1 (Long Island) only by hand-launched watercraft (canoe, punt, rowboat, and similar watercraft) from the canoe launch at refuge headquarters. Your boat must meet Coast Guard safety requirements. We prohibit use of trailers.

* * * * *

34. Amend § 32.67 Washington by:

a. Removing paragraphs B.2 and C.2 and redesignating paragraphs B.3 and C.3 as paragraphs B.2 and C.2, respectively, under Columbia National Wildlife Refuge.

b. Revising paragraphs A, C.9, and D under Julia Butler Hansen Refuge for the Columbian White-Tailed Deer.

c. Revising paragraph A.6 under McNary National Wildlife Refuge.

d. Revising paragraphs A.3, A.5, A.11, A.13, and A.14 and adding paragraph A.17 under Ridgefield National Wildlife Refuge.

e. Revising paragraphs A, B, and C under Willapa National Wildlife Refuge.

These revisions and additions read as follows:

§ 32.67 Washington.

* * * * *

Julia Butler Hansen Refuge for the Columbian White-Tailed Deer

A. Migratory Game Bird Hunting. We allow hunting of goose, duck, coot, and common snipe on the refuge-owned shorelines of Hunting and Price Islands in accordance with State regulations and subject to the following conditions:

1. You may possess only approved nontoxic shot for hunting (see § 32.2(k)).

2. You may not shoot or discharge any hunting firearm from, across, or along a public highway, designated route of travel, road, road shoulder, road embankment, or designated parking area.

3. We prohibit permanent blinds. You must remove all personal property, including decoys and boats, by 1 hour after legal sunset (see §§ 27.93 and 27.94 of this chapter).

4. We prohibit hunting along refuge-owned shorelines of Hunting and Price Islands where it parallels Steamboat Slough.

5. We open the refuge for hunting access from 1½ hour before legal sunrise until 1½ hour after legal sunset.

6. We prohibit dogs on the refuge, except for hunting dogs engaged in authorized hunting activities, and under the immediate control of a licensed hunter (see § 26.21(b) of this chapter).

* * * * *

C. Big Game Hunting. * * *

* * * * *

9. We require hunters to sign in and out each day at the refuge headquarters. When signing out for the day, you must report hunting success, failure, and any hit-but-not retrieved animals on the Big Game Harvest Report (FWS Form 3-2359).

* * * * *

D. Sport Fishing. Bank fishing is allowed from the Mainland Unit shoreline adjoining the Elochoman and Columbia Rivers as well as Steamboat and Brooks Sloughs, in accordance with State fishing regulations. Bank fishing is allowed in the pond adjacent to the diking district pumping station by Brooks Slough. All other areas of the mainland unit are closed to fishing. Bank fishing is allowed along the shorelines of refuge islands in accordance with State regulations.

* * * * *

McNary National Wildlife Refuge

A. Migratory Game Bird Hunting. * * *

* * * * *

6. On the Peninsula Unit, we allow hunting subject to the following conditions: On the east shoreline of the Peninsula Unit, we allow hunting only from established numbered blind sites, assigned on a first-come, first-served basis, and we require hunters to remain within 100 feet (30 meters) of marked posts unless retrieving birds or setting decoys.

* * * * *

Ridgefield National Wildlife Refuge

A. Migratory Game Bird Hunting. * * *

* * * * *

3. We limit hunting of dusky Canada goose in accordance with State regulations and quotas. The State defines dusky Canada goose as a dark breasted Canada goose, as determined by a Munsell color chart 10 YR, 5 or less, with a culmen (bill) length of 40 to 50 millimeters (1.6 to 2 inches). We will close the refuge goose season early if the dusky Canada goose harvest reaches the refuge quota assigned by the State.

* * * * *

5. Prior to entering the hunt area, you must pay a recreation user fee, obtain a blind assignment, and obtain a Migratory Bird Hunt Report (FWS Form 3-2361). You must carry the Migratory Bird Hunt Report while hunting as proof of blind assignment and user fee payment.

* * * * *

11. You may possess only approved nontoxic shotshells for hunting (see § 32.2(k)) in quantities of 25 or fewer per day.

* * * * *

13. Prior to switching blinds, you must first report to the refuge check station to obtain a new blind assignment. You must submit an accurate Migratory Bird Hunt Report (FWS Form 3-2361) for the blind being vacated, and obtain a new Migratory Bird Hunt Report for the new blind.

14. Prior to leaving the hunt area, you must check out at the refuge check station, submit an accurate Migratory Bird Hunt Report (FWS Form 3-2361), and present all harvested birds for inspection by check station personnel.

* * * * *

17. Persons possessing, transporting, or carrying firearms on national wildlife refuges must comply with all provisions of State and local law. Persons may only use (discharge) firearms in accordance with refuge regulations (see § 27.42 of this chapter and specific refuge regulations in this part 32).

* * * * *

Willapa National Wildlife Refuge

A. Migratory Game Bird Hunting. Hunting of geese, ducks, coots, and snipe is permitted on designated areas of the refuge in accordance with State hunting regulations and subject to the following conditions:

1. Prior to entering the hunt area at the Riekkola and Tarlatt Units, all hunters are required to obtain and carry a Migratory Bird Hunt Application (FWS Form 3-2357), pay a recreation user fee, obtain a blind assignment, and report waterfowl taken per instructions on the Migratory Bird Hunt Report (FWS Form 3-2361).

2. At the Riekkola and Tarlatt Units, hunters may take ducks and coots only coincidental to hunting geese.

3. Goose hunting is permitted on Wednesday and Saturday in the Riekkola and Tarlatt Units only from established blinds.

4. At the Riekkola and Tarlatt Units, you may possess no more than 25 approved nontoxic shells per day while hunting.

5. You may possess only approved nontoxic shot for hunting (see § 32.2(k)).

6. You may not shoot or discharge any hunting firearm from, across, or along a public highway, designated route of travel, road, road shoulder, road embankment, or designated parking area.

7. We prohibit camping on the refuge except in designated campgrounds on Long Island for up to 14 days.

8. We open the refuge for hunting access from 1½ hour before legal sunrise until 1½ hour after legal sunset.

9. We require dogs to be kept on a leash, except for hunting dogs engaged in authorized hunting activities, and under the immediate control of a licensed hunter (see § 26.21(b) of this chapter). We prohibit dogs on Long Island and on beaches within the Leadbetter Point Unit.

10. Access to the hunt area is by foot or boat access only. We allow bicycles on designated roads and trails only. Mobility-impaired hunters should consult the Refuge Manager for allowed conveyances.

11. We prohibit permanent blinds. You must remove all personal property, including decoys and boats, by 1 hour after legal sunset (see §§ 27.93 and 27.94 of this chapter).

B. Upland Game Hunting. We allow hunting of forest grouse (sooty and ruffed) on Long Island, subject to the following conditions:

1. Hunters are required to obtain and carry a Big/Upland Game Hunt Application (FWS Form 3-2356) and report game taken, hours hunted, and name/address/date on the Upland/Small Game/Furbearer Report (FWS Form 3-2362).

2. Archery hunting only.

3. You may not shoot or discharge a firearm on Long Island.

4. Dogs are not permitted on Long Island.

5. Conditions A7 through A10 apply.

6. We prohibit fires on the refuge, except in designated campgrounds on Long Island (see § 27.95(a) of this chapter).

C. Big Game Hunting. We allow hunting of deer, elk, and bear on designated areas of the refuge, in accordance with State regulations subject to the following conditions:

1. At Long Island hunters must obtain and carry a Big/Upland Game Hunt Application (FWS Form 3-2356) and report game taken, hours hunted and name/address/date on the Big Game Harvest Report (FWS Form 3-2359).

2. At Long Island, only archery hunting is permitted and hunting firearms are prohibited.

3. Bear hunting is prohibited on any portion of the refuge except Long Island.

4. The use of centerfire or rimfire rifles is prohibited within the Lewis, Porter Point, and Riekkola Units.

5. Dogs are prohibited.

6. Conditions A7 through A10 and B6 apply.

7. We prohibit construction or use of permanent blinds, platforms, ladders, or screw-in foot pegs.

8. You must remove all personal property, including stands, from the refuge by 1½ hours after legal sunset (see §§ 27.93 and 27.94 of this chapter).

9. Tree stands may stay in place for 3 days and must be labeled with the hunter's name and phone number, and the date the stand was set-up. The stand may be set-up 1½ hours before legal sunrise. The stand must be removed before 1½ hours after legal sunset on the third day.

* * * * *

35. Amend § 32.69 Wisconsin by revising paragraph B.5 and removing paragraph B.6 under Necedah National Wildlife Refuge to read as follows:

§ 32.69 Wisconsin.

* * * * *

Necedah National Wildlife Refuge

* * * * *

B. Upland Game Hunting. * * *

* * * * *

5. You may only hunt snowshoe hare during the season for cottontail rabbit.

* * * * *

36. Amend § 32.70 Wyoming by adding, in alphabetical order, an entry for Cokeville Meadows National Wildlife Refuge to read as follows:

§ 32.70 Wyoming.

* * * * *

Cokeville Meadows National Wildlife Refuge

A. Migratory Game Bird Hunting. We allow hunting of ducks, dark geese, coots, mergansers, snipe, Virginia rail, Sora rail, sandhill crane, and mourning dove in accordance with State regulations and subject to the following conditions:

1. We prohibit hunting of migratory game birds in areas of the refuge indicated on the Cokeville Meadows National Wildlife Refuge Hunting Brochure and marked by signs as closed to all hunting or closed to migratory bird hunting.

2. You may only possess approved nontoxic shot while in the field (see § 32.2(k)).

3. We prohibit pits and permanent blinds.

4. You may use portable blinds or blinds constructed of natural dead vegetation (see § 27.51 of this chapter).

5. You must remove all decoys, shell casings, portable and temporary blinds, and other personal equipment (see §§ 27.93 and 27.94 of this chapter) from the refuge at the end of each day.

6. We prohibit possession or consumption of any alcoholic beverage while hunting (see § 32.2(j)).

7. Hunters may not enter closed areas to retrieve animals legally shot in an open area unless authorization has been given by a refuge employee or State Conservation Officer. Permission must be obtained from private landowners before attempting to retrieve game on private land.

8. Dogs must be leashed and/or under the direct control of a handler (see § 26.21(b) of this chapter). The use of dogs to find and retrieve legally harvested migratory game birds is allowed.

9. Hunters must park in a Designated Hunter Parking Area, as identified by signs.

10. Hunters are required to access and exit the hunting areas from a Designated Hunter Parking Area only. Drop off or pick up of hunters is prohibited except at Hunter Designated Parking Areas.

11. Hunters may only access the refuge 1 hour before legal sunrise until 1 hour after legal sunset.

B. Upland Game Hunting. We allow hunting of blue grouse, ruffed grouse, chuckar partridge, gray partridge, cottontail rabbits, snowshoe hares, squirrels (red, gray, and fox), red fox, raccoon, and striped skunk in accordance with State regulations and subject to the following conditions:

1. Conditions A2 through A7 and A9 through A11 apply.

2. We prohibit hunting of upland game species in areas of the refuge indicated on the Cokeville Meadows National Wildlife Refuge Hunting Brochure and marked by signs as closed to all hunting.

3. Dogs must be leashed and/or under the direct control of a handler. The use of dogs to find and retrieve legally harvested upland game birds, cottontail rabbits, and squirrels is allowed and encouraged. Dogs may not be used to chase red fox, raccoon, striped skunk, or any other species not specifically allowed in A8 or this paragraph.

4. Red fox, raccoon, and striped skunk may be taken on the refuge by licensed migratory bird, big game, or upland/small game hunters from September 1 until the end of the last open big game, upland bird, or small game season. Red fox, raccoon, or striped skunk that is harvested must be taken into possession and removed from the refuge.

5. We prohibit hunting of sage grouse.

C. Big Game Hunting. We allow hunting of elk, mule deer, white-tailed deer, pronghorn, and moose in accordance with State regulations and subject to the following conditions:

1. Conditions A3 through A7 and A9 through A11 apply.

2. We prohibit hunting of big game in areas of the refuge indicated on the Cokeville Meadows National Wildlife Refuge Hunting Brochure and marked by signs as closed to all hunting.

3. You may hunt with the aid of a temporary tree stand that does not require drilling or nailing into the tree. All personal property, including temporary tree stands, must be removed at the end of each day (see §§ 27.93 and 27.94 of this chapter).

D. Sport Fishing. [RESERVED]

* * * * *

Dated: August 27, 2013.
Rachel Jacobson,
Principal Deputy, Assistant Secretary for Fish and Wildlife and Parks.

[FR Doc. 2013-21804 Filed 9-23-13; 8:45 am]

BILLING CODE 4310-55-P